POSTAL SERVICE

39 CFR Part 111

New Mailing Standards for Domestic Mailing Services Products

AGENCY: Postal Service™.

ACTION: Final rule.

SUMMARY: On April 16, 2015, the Postal Service filed a notice of mailing services price adjustments with the Postal Regulatory Commission (PRC), effective May 31, 2015. This final rule contains the revisions to Mailing Standards of the United States Postal Service, Domestic Mail Manual (DMM®) to implement the changes coincident with the price adjustments and other minor DMM changes.

DATES: Effective date: May 31, 2015.

FOR FURTHER INFORMATION CONTACT: Karen Key, 202-268-7492, John Rosato, 202-268-8597, or Suzanne Newman, 202-695-0550.

SUPPLEMENTARY INFORMATION: Prices are available under Docket Number R2015-4 on the Postal Regulatory Commission's Web site at www.prc.gov. The Postal Service's final rule includes changes to certain market dominant prices. Directly below, we discuss comments on proposed price changes, and the Postal Service's responses to those comments, followed by a summary of minor DMM changes.

Comments on Proposed Changes

Summary

The Postal Service received four formal responses to our proposed rule as comments, questions, or suggestions related to prices.

Changes to Prices

We received one formal question from a mailer on prices and three formal comments from mailers voicing opposition to the price increases. One mailer questioned why First-Class™ commercial automation prices in the PRC filing were slightly lower than the proposed prices posted on Postal Explorer®.

Response: We believe that the mailer was viewing the CPI prices without exigent surcharges within the filing; therefore, the customer was advised to view Attachment A, Part II, Changes to Mail Classification Schedule (CPI Prices + Exigent Surcharges) which was filed under Docket Number R2015-4 on the Postal Regulatory Commission's Web site at www.prc.gov.

One periodicals printer/mailer commented that the Industry as a whole were unaware of the Postal Service's intentions for price changes any time in 2015. This commenter recommended leaving the Exigent pricing in place as long as there were no additional increases for the next two to three years.

A fulfillment company which uses various classes of mail and serves both consumer and business customers, including commercial and non-profit, urged deferral of the proposed price increase for postage rates in 2015 until 2016, except for the increases applicable to Standard Mail® parcels. The commenter stated that the Postal Service did not signal postage increases for 2015, any time during 2014. Therefore, mailers/clients budgeted accordingly and any increases would cause the customers to mail less, if at all. The commenter continued that price increases in 2014 have already impacted mail volumes, and mailers are offering e-gifts, over postage and fulfillment costs. Further, with diminishing volumes due to price increases, the commenter suggested that the Postal Service pursue internal efficiency goals, including reducing the costs of labor, facilities, and processing instead of enacting postage increases.

Response: The Postal Service signaled its intention in January 2015 that new pricing, combined with increased efficiencies gained through network consolidation and improved processing, supported the overall strategic direction of the Postal Service.

One Mail Service Provider commented on the virtues of eDocumentation (eDoc) and seamless acceptance and directed his recommendation in support of future price increases to reduce the differences between automation and non-automation prices, to encourage more mailers to participate in eDoc, which is a requirement for seamless acceptance participation.

Response: The Postal Service appreciates the recommendation and will consider it during future pricing evaluations.

Changes to Extra Services

Certificate of Mailing

We received two comments from mailers related to the changes to Certificate of Mailing service, generally stating that there has not been a sufficient amount of notification for the changes, that mailers were not directly engaged in the development of these proposed changes, and the technical integration work required of the mailers to comply with the changes will take time and be a significant cost factor. There appeared to be some confusion on the actual extent of the changes proposed. One commenter further suggested that the Postal Service eliminate pursuing changes as mailers are moving toward electronic notifications instead of purchasing Certificate of Mailing service. The commenter also stated that the Postal Service should permit the two domestic Certificate of Mailing options to remain as they are today, and implement the new version as optional. The mailer also suggested that the Postal Service change the proposed rule to an Advanced Notice.

Response: To provide clarification, the proposed changes to Certificate of Mailing did not include eliminating the provision of a date stamp (postmark) on the forms, nor provision of the piece-level data from mail processing equipment. The current acceptance and sampling procedures were not changing.

Return Receipt After Mailing

We received two comments from mailers and one from mailer associations who disagreed with our proposal to retire Return Receipt after Mailing™ (RRAM). Opposition surrounded the flexibility and the costs to purchase return receipts at the time of mailing versus after mailing. One third-party mailer using Certified Mail® voiced concern that this appeared to be reducing the level of Certified Mail service.

Response: The Postal Service believes that allowing a mailer to purchase a return receipt at the time of mailing still provides the same or a preferable service to customers. A hard-copy return receipt purchased at the time of mailing provides the recipient's actual hardcopy signature when the mailpiece can be successfully delivered as addressed. A PS Form 3811-A, Request for Delivery Information/Return Receipt After Mailing, provides either information from the delivery record (recorded and postmarked by an employee on the form) or an electronic signature (electronic return receipt) provided to the mailer when an email address has been provided. Restricting the purchase of a return receipt to only at the time of mailing will eliminate manual efforts needed to process a hard-copy PS Form 3811-A. The cost of purchasing return receipt (PS Form 3811, Domestic Return Receipt) at the time of mailing (currently $2.70) or an electronic return receipt at the time of mailing (currently $1.35) are both significantly lower than the cost of purchasing a return receipt after mailing (currently $5.25). The Postal Regulatory Commission's Order 2388 on March 10, 2015, confirmed that the elimination of RRAM does not violate applicable law and regulations. Therefore, this product will be removed from the Postal Service's product offering.

Other Comments

Three other formal comments were received; one comment on more than one item, one with a question not related to the proposed rulemaking, and one with a suggestion. One mailer association voiced displeasure regarding changes to FSS preparation, Certificate of Mailing, and the late fee proposed for overdue Address Correction Service fees. The association urged the Postal Service not to implement any price or mail preparation changes. Another mailer association commented that there were too many changes in the proposed rule and suggested that changes be separated into three or four separate proposals. One representative of a mailer association questioned the context of a DMM section mentioned in the proposed rule that was outside of the proposed rulemaking.

Response: The Postal Service has received prior feedback that changes should be combined and implemented simultaneously to help reduce the number of changes throughout a calendar year. Knowing the complete scope of what is planned helps vendors and mailers better understand the strategic vision of what is planned. The FSS changes in the proposal were a reflection of previous mailer feedback to continue to improve FSS pricing and mail preparation to obtain additional cost efficiencies. The late fees for Address Correction Services will be considered in the future and have been withdrawn from the final rule.

First-Class Mail Parcels

In November 2014, the Governors approved filing for the transfer of First-Class Mail® Parcels from a market dominant to a competitive product. The pleading was filed with the Postal Regulatory Commission (PRC) on November 14, 2014, Docket No. MC2015-7. As of this date, the PRC has not yet ruled on the filing, therefore, no changes to the standards for First-Class Mail Parcels are being announced as part of this final rule.

Return Receipt for Merchandise

The Postal Service has elected to defer its proposal to eliminate Return Receipt for Merchandise effective April 26, 2015, filed in Docket No. MC2015-8, following conditional approval received from the Commission (Order No. 2322, January 15, 2015). The Postal Service will continue to evaluate whether Return Receipt for Merchandise service will be eliminated in the future, and if so, a formal advanced notice would be provided.

Indemnity Claims and Refunds

In continuing our efforts to streamline and improve the refunds and claims processes for our customers, the Postal Service proposed that mailers would file their requests for any applicable extra service fee refunds using an online application instead of submitting hardcopy requests to the local Postmaster. Although the Postal Service has approval to proceed with this enhancement, the final implementation date is not yet determined and will be communicated in a future final rule.

Summary of Changes To Be Implemented

Changes for First-Class Mail Prices

The Postal Service will maintain the First-Class Mail single-piece stamp price at 49 cents, and the price for single-piece flats up to one ounce at 98 cents. The single-piece additional ounce and non-machinable surcharge prices will increase one cent to 22 cents. The Metered Mail price will increase modestly but will still remain below the single-piece stamp price. A complete list of approved prices for First-Class Mail™ is available under Docket Number R2015-4 on the Postal Regulatory Commission's Web site at www.prc.gov.

Package Services

Package Services (Alaska Bypass, Bound Printed Matter, Media Mail®, and Library Mail) prices were adjusted for these products.

Standard Mail Prices

Standard Mail prices were adjusted.

Periodicals Prices

Periodicals prices were adjusted.

Returns Simplification

The Postal Service is making several changes to merchandise return options. Customers may establish a single Return Services permit, and pay a single Return Services annual account maintenance fee at any Post Office, to receive any one, or a combination of, the following returns offerings:

• Merchandise Return Service (MRS), including USPS Returns paid using a scan-based payment method.

• Parcel Return Service (PRS).

Upon annual renewal, the Return Services permit and annual accounting fees will be waived for those mailers showing outbound package volume paid using their outbound permit imprint account within the prior year. The Postal Service is expanding the amount of insurance available for purchase with returns as detailed under the insurance section of this final rule. Additionally, Parcel Return Service—Full Network is eliminated as a general offering and retained only as an option for customers under a Negotiated Service Agreement (NSA).

Merchandise Return Service

The Postal Service will replace the use of market dominant First-Class Mail parcels, Package Services (Media Mail, Library Mail, and Bound Printed Matter), and Standard Post™ for MRS with First-Class Package Service and Parcel Select® Nonpresort (ground) products.

The Postal Service believes that our business mailers using MRS today can receive the same handling and delivery service options when using our commercially-priced products, or one of the other existing returns products. Additional changes to the DMM include removing obsolete language allowing MRS labels to be sent by fax. An IMpb is required by current standards on all MRS labels, and which align with standards prohibiting the faxing of MRS labels with USPS Tracking barcodes.

Bulk Parcel Return Service

The Postal Service will eliminate the BPRS annual permit and account maintenance fees as a requirement for the service. Additionally, in support of our visibility initiatives, all BPRS labels will require an IMpb. This change aligns with the IMpb requirement on all other return services labels for parcels, and on all outbound commercial parcels. All other requirements for participation will remain unchanged.

Extra Services

The following items represent the changes to extra services:

USPS Tracking

With this final rule, USPS Tracking will be included at no additional charge for First-Class Mail parcels, Media Mail, Library Mail, and Bound Printed Matter as long as the label includes an accurate Intelligent Mail package barcode (IMpb). USPS Tracking will still be available for purchase with Standard Mail parcels, including Marketing Parcels.

Insurance

The Postal Service will combine the domestic Priority Mail Express® merchandise insurance and the domestic general insurance tables into one table. No other changes will be made to the insurance included with Priority Mail Express and Priority Mail®, or to the options for purchasing additional insurance for any applicable outbound product. However, the ability to purchase insurance coverage for USPS returns products will be expanded to allow either the Returns Services permit holder, or the sender using the returns label, to purchase insurance up to the current allowable limit of $5,000.00. There will be no other changes to the standard which disallows any “included” insurance coverage for returns products.

The Postal Service will adjust the insurance threshold for capturing the recipient's signature at the time of delivery from items insured for more than $200.00, to items insured for more than $500.00. Additionally, the delivery record (including a copy of the recipient's signature) will be provided to mailers at no additional charge for items insured for more than $500.00 (excludes insurance purchased for more than $500.00 for returns). Customers who want a signature for their outbound items insured for $500.00 or less can purchase Signature Confirmation™ service in addition to insurance.

Certified Mail

The Postal Service introduces three new combined offerings under Certified Mail® service:

• Certified Mail Restricted Delivery (available through all channels);

• Certified Mail Adult Signature Required;

• Certified Mail Adult Signature Restricted Delivery (available online and to commercial mailers only).

Restricted Delivery

The Postal Service will replace restricted delivery service, which is currently used as a separate add-on and price, with a combination of extra services (with which restricted delivery can be purchased today). Customers may choose from the following restricted delivery combined services:

• Certified Mail Restricted Delivery.

• Certified Mail Adult Signature Restricted Delivery.

• Collect on Delivery (COD) Restricted Delivery.

• Insurance (over $500.00) Restricted Delivery.

• Registered Mail™ Restricted Delivery.

• Signature Confirmation Restricted Delivery (expanded from online only, to include retail and commercial channels.)

Return Receipt

The Postal Service is adjusting the availability of a domestic return receipt from items insured for more than $200.00, to items insured for more than $500.00, which aligns with the threshold changes to insured mail for which USPS™ obtains a delivery record (that includes the recipient's signature). Additionally, the hardcopy PS Form 3811, Domestic Return Receipt, or any USPS-approved facsimile, will include an IMpb that will be electronically linked to the IMpb for the applicable extra service for the mailpiece. The IMpb on the return receipt will provide tracking visibility to mailers similar to that provided for other extra services requiring an IMpb.

The option for purchasing a return receipt after mailing is being eliminated. Mailers wishing to receive a copy of the delivery record (including the recipient's signature obtained at the time of delivery) will still be able to do so by purchasing the applicable extra service at the time of mailing.

USPS Signature Services

The Postal Service introduces a USPS Signature™ service umbrella which will encompass the various extra services that provide electronic signature data (including the recipient's signature obtained at the time of delivery). The basic standards for the extra services will remain unchanged. The USPS Signature services umbrella will encompass:

• Signature Confirmation.

• Signature Confirmation Restricted Delivery.

• Adult Signature Required *.

• Adult Signature Restricted Delivery *.

* This USPS Signature service is only available through online or commercial channels.

Adult Signature

Adult Signature Required and Adult Signature Restricted Delivery options are expanded to include First-Class Package Service and Parcel Select Lightweight® pieces purchased through commercial channels. Customers using these products are able to choose either Adult Signature Required (delivery to an individual with identification showing they are at least 21 years of age) or Adult Signature Restricted Delivery (delivery to an individual specified by name with identification showing who they are, and that they are at least 21 years of age).

Certificate of Mailing

The following changes related to domestic Certificate of Mailing service are being made: A new firm sheet, PS Form 3665, Certificate of Mailing—Firm (Domestic), is being introduced for commercial mailers presenting three or more mailpieces at one time (replacing the use of the PS Form 3877 firm sheet as domestic certificates of mailing) and a new PS Form 3606-D, Certificate of Bulk Mailing (For Domestic Use) (replacing the use of the current PS Form 3606). However, until further notice, the Postal Service will grant a grace period for forms implementation and allow mailers to use up existing supplies of current facsimiles (of either replaced form). This exception is universal in scope and does not require a unique request for an exception.

The additional changes to Certificate of Mailing service will limit the use of PS Form 3817, Certificate of Mailing, to fewer than three pieces presented at retail locations at one time, and PS Form 3665—Firm for three or more pieces presented at one time. Mailers presenting fewer than 50 pieces or 50 pounds (whichever amount is met first) of corresponding articles at one time, will be permitted to present PS Form 3665—Firm or PS Form 3606-D at retail Post Office™ locations. Mailers presenting at least 50 pieces or 50 pounds (whichever amount is met first; lesser amounts only if deemed reasonable by USPS management) of corresponding articles at one time, must do so at a Business Mail Entry Unit (BMEU) or USPS authorized DMU (Detached Mail Unit).

Collect on Delivery (COD)

PS Form 3816, COD Mailing and Delivery Receipt, used for Collect on Delivery (COD) service will be revised to include a Hold For Pickup and a street delivery option for mailers using online and commercial payment methods. Additionally, mailers will have the option to obtain Electronic Funds Transfer (EFT), in lieu of a postal money order, for remittance of COD payments made by cash. No fee is associated with remittances made via EFT; however, mailers must be authorized by the Postal Service to participate in the EFT option.

Special Handling

The Postal Service has redesigned special handling service by eliminating the weight threshold associated with special handling fees, and creating content-specific identifiers. Only the Fragile category will include a fee. The Postal Service added the following content-specific handling service codes under the special handling umbrella:

• Hazardous Material Transportation.

• Fragile.

• Perishable.

Changes to Flats

Incenting for Flats Sequencing System (FSS) Preparation

The Postal Service is adding a new FSS piece price for all FSS qualifying pieces for machinable barcoded (automation) flats and machinable non-barcoded/nonautomation flats. Sortation of High Density and High Density Plus Carrier Route flats will continue to be optional for inclusion in FSS scheme bundles. However, if included in the FSS sort, they will no longer be considered High Density or High Density Plus mailpieces and will pay the new FSS piece price.

High Density and High Density Plus mailers may continue to prepare their mail destined to FSS ZIPs as High Density and High Density Plus Carrier Route pieces and would sort, bundle, and containerize them as they would for Non-FSS ZIPs and pay the applicable High Density and High Density Plus prices. However, the Postal Service has added a new destination entry for these High Density and High Density Plus Carrier Route flats containers going to FSS zones. Mailers will be able to enter these containers at the applicable FSS facility and receive a DFSS entry price for these High Density or High Density Plus that is applicable to the DSCF entry price. All FSS scheme and facility containers (including sacks and flat trays) entered at an FSS facility will be eligible for the DFSS entry price for Periodicals, Standard Mail, and Bound Printed Matter (BPM) flats.

The Postal Service also added new destination entry pricing (DFSS) for eligible FSS scheme and facility containers for qualifying FSS Periodicals, Standard Mail flats and Bound Printed Matter flats. Besides enhanced FSS piece pricing and container specific DFSS destination entry pricing, Periodicals will also have bundle pricing for FSS scheme bundles and container prices for FSS Scheme and FSS Facility containers. All BPM flats pieces that bear addresses within FSS Zip-Codes™ must be sorted to FSS schemes. This includes pieces that are currently sorted to the 5-digit and Carrier Route level and dropped at the DDU. All qualified FSS schemed BPM flats will be reported as: Origin entry (None) zones 1-9 FSS scheme, DNDC entry zones 1-5 FSS scheme, DSCF entry FSS Scheme; or DFSS entry for the pieces in FSS scheme bundles in or on a FSS scheme container; or in FSS scheme bundles in or on a FSS facility container.

Incenting for 5-digit Pallets of Carrier Route Bundles

A new incentive is included for Periodicals and Standard Mail flats. There will be separate prices for carrier route pieces on 5-digit Carrier Routes or 5-digit Scheme Carrier Routes pallets which consist entirely of carrier route bundles for the same applicable 5-digit or 5-digit scheme.

2015 Promotions

The Postal Service will offer the following four mailing promotions in three categories in calendar year 2015 (details of these promotions will be available on RIBBS at https://ribbs.usps.gov/index.cfm?page=mailingpromotions:

Leverage Value of First-Class Mail

1. Earned Value Promotion; May 1-July 31

2. Color Transpromo Promotion; June 1-November 30

Mobile Technology—Standard Mail and First-Class Mail

3. Advanced and Emerging Technologies Promotion; June 1-November 30

Technology Drives Relevance—Standard Mail

4. Mail Drives Mobile Engagement Promotion; July 1-December 31

Ancillary Service Endorsements

Change Service Requested Option 2

The standards for the treatment of Standard Mail letters and flats, and Bound Printed Matter Flats will be revised to allow mailers an additional ancillary service endorsement option.

Other DMM Clarifications, Changes and Corrections

Return Call Tag (Print and Deliver Return Label Service) Name Change

This article serves as notice to customers that the Postal Service renames Call Tag Return Service (implemented in September 2014) as Print and Deliver Return Label Service. Print and Deliver Return Label Service provides an option for permit holders to electronically request that an applicable USPS-return label, which is then generated and delivered by USPS to their customer (label end-user).

Competitive Post Office (PO) Box Services

The Postal Service will clarify the language in the DMM standards for competitive PO Box™ service, when box holders in competitive locations use the optional street addressing enhancement. Customers who choose to use this designation also have the option of receiving packages from private carriers at their Post Office Box™ address. Packages from private carriers being delivered to a customer at a competitive Post Office Box service location, when using the street addressing designation option, do not require U.S. Postage to be affixed on the face of the package.

Standard Mail Marketing Parcels

Clarifying language will be added to the standards for Standard Mail™ Marketing Parcels to indicate that bulk insurance is not available because bulk insurance is already excluded by standards for items bearing an alternate address format.

Expedited Markings on Mailpieces

Clarification will be made to the mailing standards for use of expedited attention, handling, or delivery markings (e.g., “Urgent,” “Rush Delivery,” or “Time Sensitive”) on mailpieces. Over time, some mailers have expanded the use of these markings to classes of mail other than Standard Mail™ paid by permit imprint, as originally intended and described in the standards. In some cases the wording used has been expanded, risking or creating trademark infringements and false advertising. This final rule provides all mailers detailed standards for the use of expedited handling or delivery markings across all products and mailpieces.

Change of Address Orders by Phone

Revisions are being made to update standards for change of address orders made by phone. The corporate call center no longer accepts change-of-address orders, requiring customer authorization using a credit card. Customers may continue to make change-of-address orders online at https://moversguide.usps.com which requires customer verification using a credit card (authentication fee charged), by submitting PS Form 3575, Change of Address Order, or other written notice, to any Post Office.

Indemnity Claims and Refunds

Revisions are being made for claims to eliminate outdated or duplicate information as follows:

Proof of value: Invoices or bills of sales must be paid receipts, not solely a customer's statement and a picture from a catalog showing value of an item.

Payable claims: The USPS is not presumed to be at fault without any physical damage to the package for live bees, crickets, and poultry.

Complete loss: If the insured, registered, or COD article is lost (not damaged), the payment includes an additional amount for the postage (not associated fee) paid by the sender.

Miscellaneous

Repositionable Notes (RPNs)

Clarification will be made in the DMM to remove references to the former price charged for RPNs which was eliminated.

Bound Printed Matter (BPM)

On December 15, 2014, the Postal Service published Postal Bulletin issue 22405, which revised the DMM to remove unnecessary language related to the former BPM barcode discount for flats which was replaced by a Full-Service Intelligent Mail option for BPM flats. This final rule revises the DMM further to remove residual references to the former barcode discount for BPM flats. The DMM language will be aligned with the Mail Classification Schedule which permits presorted or Carrier Route barcoded BPM flats to be prepared as Full-Service mailings. Although these corrections will not be published in the DMM until June 1, 2015, they may be followed immediately.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of the Mailing Standards of the United States Postal Service, Domestic Mail Manual (DMM).

* * * * *

Mailing Standards of the United States Postal Service, Domestic Mail Manual (DMM)

* * * * *

100 Retail Mail

* * * * *

102 Elements on the Face of a Mailpiece

* * * * *

3.0 Placement and Content of Mail Markings

* * * * *

[Insert new 3.5 to read as follows:]

3.5 Marking Expedited Handling on Mail

Mailpieces bearing references to expedited handling or delivery (e.g., “Urgent,” “Rush Delivery,” “Time Sensitive”) must meet the requirements under 604.5.3.5.

* * * * *

140 Every Door Direct Mail—Retail (EDDM-Retail)

143 Prices and Eligibility

* * * * *

2.0 Content Standards for EDDM—Retail Flats

* * * * *

2.5 Attachments and Enclosures

[Revise the third sentence of the introductory text of 2.5 to read as follows:]

***EDDM—Retail flats may bear Repositionable Notes under 202.7.0.***

* * * * *

200 Commercial Mail

201 Physical Standards

* * * * *

3.0 Physical Standards for Machinable and Automation Letters and Cards

* * * * *

3.18 Enclosed Reply Cards and Envelopes

[Revise the second sentence of 3.18 to read as follows:]

* * *For Business Reply Mail (BRM) see 505.1.0, for pre-paid reply mail (also known as Metered Reply Mail) or Courtesy Reply Mail (CRM) see 505.2.6.

4.0 Physical Standards for Flats

* * * * *

4.7 Flat-Size Pieces Not Eligible for Flat-Size Prices

[Revise the introductory text of 4.7 to read as follows:]

Flat-size mailpieces that do not meet the standards in 4.3 through 4.6 must pay applicable higher prices as follows:

* * * * *

b. * * * Under the column heading “eligibility as presented,” flats will be considered to be presented as automation flats only if they meet all other eligibility standards for automation flats.

[Revise Exhibit 4.7b, Pricing for Flats Exceeding Maximum Deflection, to read as follows:]

Exhibit 4.7b Pricing for Flats Exceeding Maximum Deflection (see 4.6)

FIRST-CLASS MAIL AUTOMATION
* * * * * * *
FIRST-CLASS MAIL PRESORTED (NONAUTOMATION)
* * * * * * *
PERIODICALS OUTSIDE COUNTY
Piece price eligibility as presented | Piece price eligibility with failed deflection.
Basic Carrier Route flat, if not entered at a DDU | Machinable 5-digit flat.
Machinable barcoded FSS | Nonmachinable barcoded 5-digit flat.
Machinable barcoded 5-digit flat | Nonmachinable barcoded 5-digit flat.
Machinable barcoded 3-digit flat | Nonmachinable barcoded 3-digit flat.
Machinable barcoded ADC flat | Nonmachinable barcoded ADC flat.
Machinable barcoded MADC flat | Nonmachinable barcoded MADC flat.
Machinable nonbarcoded FSS | Nonmachinable nonbarcoded 5-digit flat.
Machinable nonbarcoded 5-digit flat | Nonmachinable nonbarcoded 5-digit flat.
Machinable nonbarcoded 3-digit flat | Nonmachinable nonbarcoded 3-digit flat.
Machinable nonbarcoded ADC flat | Nonmachinable nonbarcoded ADC flat.
Machinable nonbarcoded MADC flat | Nonmachinable nonbarcoded MADC flat.
Nonmachinable barcoded or nonbarcoded flat | Price claimed, if otherwise eligible.
PERIODICALS IN-COUNTY
* * * * * * *
STANDARD MAIL
Eligibility as presented | Eligibility with failed deflection
Basic Carrier Route flat, if not entered at a DDU | Nonautomation 5-digit flat.
Automation FSS Sch Pallet | Nonautomation FSS Sch Pallet.
Automation FSS Other | Nonautomation FSS Other.
Automation FSS Sch Cont. | Nonautomation FSS Sch Cont.
Automation FSS Facility Cont. | Nonautomation FSS Facility Cont.
Automation 5-digit flat | Nonautomation 5-digit flat.
Automation 3-digit flat | Nonautomation 3-digit flat.
Automation ADC flat | Nonautomation ADC flat.
Automation MADC flat | Nonautomation MADC flat.
Nonautomation flat (all sort levels) | Nonautomation MADC flat.
BOUND PRINTED MATTER
Eligibility as presented | Eligibility with failed deflection.
Carrier Route flat, if not entered at a DDU | Carrier Route parcel.
Barcoded/nonbarcoded presorted flat | Presorted parcel.
Barcoded/nonbarcoded FSS Sch flat | Presorted parcel Price as claimed, if otherwise eligible.
Nonbarcoded nonpresorted flat

* * * * *

202 Elements on the Face of a Mailpiece

* * * * *

3.0 Placement and Content of Mail Markings

* * * * *

[Insert new 3.5.1 to read as follows:]

3.5.1 Marking Expedited Handling on Mail

Mailpieces bearing references to expedited handling or delivery (e.g., “Urgent,” “Rush Delivery,” “Time Sensitive”) must meet the requirements under 604.5.3.5.

* * * * *

5.0 Barcode Placement Letters and Flats

* * * * *

5.2 Flat-Size

5.2.1 Barcode Placement for Flats

[Revise the third sentence of 5.2.1 to read as follows:]

* * * The portion of the surface of the piece on which the Intelligent Mail barcode is printed must meet the barcode dimensions and spacing requirements in 708.4.0. * * *

* * * * *

7.0 Repositionable Notes (RPNs)

7.1 Use

[Revise the introductory sentence to read as follows:]

RPNs are not assessed a fee when used, and must meet all of the following standards:

* * * * *

[Revise the text of item 7.1f to read as follows:]

f. Attach the RPNs to all pieces in the mailing, except as provided for non-identical manifested mail.

* * * * *

[Delete 7.5, Prices, in its entirety and renumber current 7.6, Compliance, as new 7.5.]

* * * * *

207 Periodicals

* * * * *

2.0 Price Application and Computation

* * * * *

2.1 Price Application

* * * * *

2.1.8 Applying Outside-County Bundle Prices

* * * The following additional standards apply:

* * * * *

[Revise the text of 2.1.8 item b to read as follows:]

b. For bundles with both In-County and Outside-County pieces, mailers do not pay the bundle charge for carrier route, 5-digit/scheme bundles and FSS scheme bundles.

* * * * *

2.2 Computing Postage

* * * * *

2.2.8 Total Postage

[Revise the text of 2.2.8 to read as follows:]

Total Outside-County postage is the sum of the per pound and per piece charges, the bundle charges, the container charges, and any Ride-Along charges; minus all discounts, rounded off to the nearest whole cent. Total In-County postage is the sum of the per pound and per piece charges, and any Ride-Along charges, less all discounts, rounded off to the nearest whole cent.

* * * * *

12.0 Nonbarcoded (Presorted) Eligibility

* * * * *

12.3 Prices—In-County

12.3.1 Five-Digit Prices

5-digit prices apply to:

* * * * *

[Revise item 12.3.1c to read as follows:]

c. Qualifying flats sorted to a FSS scheme under 705.14.0.

12.3.2 Three-Digit Prices

3-digit prices apply to:

* * * * *

[Delete item 12.3.2c in its entirety]

* * * * *

13.0 Carrier Route Eligibility

* * * * *

13.2 Sorting

13.2.1 Basic Standards

* * * Carrier route prices apply to copies that are prepared in carrier route bundles of six or more addressed pieces each, subject to these standards:

* * * * *

b. Nonletter-size mailings. Carrier route prices apply to carrier route bundles that are sorted in one of the following ways:

* * * * *

[Delete 13.2.1b item 4 in its entirety]

* * * * *

13.3 Walk-Sequence Prices

13.3.1 Eligibility

[Revise the second sentence of 13.3.1 to read as follows:]

* * * High density and saturation mailings must be prepared in carrier walk sequence according to USPS schemes see 23.8.

* * * * *

14.0 Barcoded (Automation) Eligibility

14.1 Basic Standards

All pieces in a Periodicals barcoded (automation) mailing must:

* * * * *

[Revise 14.1 item d to read as follows:]

d. Be marked, sorted, and documented as specified in 705.8.0 (if palletized); or 24.0 (for letters) or 25.0 (for flats) or; for nonletter-size mail, 705.9.0, 705.10.0, 705.12.0, or 705.13.0; or for nonletter-size mail, bundles prepared on or in pallets, trays, sacks or other approved container under 705.14.0.

* * * * *

14.2 Eligibility Standards for Full-Service Automation Periodicals

All pieces entered under the full-service automation option must:

* * * * *

[Revise 14.2 item c to read as follows:]

c. Be scheduled for an appointment through the Facility Access and Shipment Tracking (FAST) system when deposited as a DNDC, DADC, DSCF, or DFSS drop shipment.

* * * * *

14.4 Prices—In-County

14.4.1 Five-Digit Prices

5-digit automation prices apply to:

* * * * *

[Revise 14.4.1 item c to read as follows:]

c. Qualifying flats sorted to a FSS scheme under 705.14.0.

* * * * *

14.4.2 Three-Digit Prices

3-digit automation prices apply to:

* * * * *

[Delete 14.4.2 item c in its entirety]

* * * * *

17.0 Documentation

* * * * *

17.4 Detailed Zone Listing for Periodicals

17.4.1 Basic Standards

[Revise the first sentence of 17.4.1 to read as follows:]

The publisher must be able to present documentation to support the actual number of copies of each edition of an issue, by entry point, mailed to each zone, at DDU, DSCF, DADC, DFSS and In-County prices.* * *

* * * * *

17.4.2 Format

Report the number of copies mailed to each 3-digit ZIP Code area at zone prices using one of the following formats:

* * * * *

[Revise the first sentence of 17.4.2 item b to read as follows:]

b. Report copies by zone (In-County DDU, In-County others, Outside-County DDU, Outside-County DFSS, Outside-County DSCF, and Outside-County DADC) and by 3-digit ZIP Code, in ascending numeric order, for each zone. ***

17.4.3 Zone Abbreviations

[Revise the text of 17.4.3 to read as follows:]

Use the actual price name or the authorized zone abbreviation in the listings in 17.3 and 17.4.2.

Zone abbreviation | Price equivalent
ICD | In-County, DDU.
IC | In-County, Others.
DDU | Outside-County, DDU.
FSS | Outside-County, DFSS.
SCF | Outside-County, DSCF.
ADC | Outside-County, DADC.
1-2 or 1/2 | zones 1 and 2.
3, 4, 5, 6, 7, 8 (as applicable) | zones 3 through 8 (as applicable).
M | mixed zones.

* * * * *

18.0 General Mail Preparation

* * * * *

18.3 Presort Terms

Terms used for presort levels are defined as follows:

* * * * *

[Redesignate current items 18.3c through 18.3t as new items 18.3d through 18.3u, then, add new item18.3c to read as follows:]

c. FSS scheme for flats: The ZIP Code in the delivery address on all pieces in the FSS bundle is one of the 5-digit ZIP Codes processed by the USPS as one scheme as shown in L006.

* * * * *

18.5 FSS Preparation

[Revise the text of 18.5 to read as follows:]

Flat sized Periodicals In-County priced mailings, along with a maximum of 5,000 Outside-County pieces for the same issue (see 207.1.1.4) and flats mailed at Saturation (Non-simplified addressed) and High Density prices may be optionally sorted under FSS preparation standards. All other Periodicals flats destinating and qualifying to FSS zones in L006, must be prepared under 705.14.0.

* * * * *

26.0 Physical Criteria for Nonmachinable Flat-Size Periodicals

* * * * *

26.3 Flexibility and Deflection

[Revise the text of 26.3 to read as follows:]

Nonmachinable flats (under 26.0) are not subject to flexibility standards or deflection standards in 201.4.0.

* * * * *

29.0 Destination Entry

29.1 Basic Standards

* * * The following standards apply:

* * * * *

[Revise 29.1 item c to read as follows:]

c. The advertising and nonadvertising portions may be eligible for DADC, DSCF, DFSS, or DDU pound prices based on the entry facility and the address on the piece.

* * * * *

29.5 Destination Flat Sequencing System (DFSS) Entry

29.5.1 Definition

[Revise 29.5.1 to read as follows:]

For this standard, destination Flat Sequencing System (DFSS) refers to the facilities listed in L006, Scheme, Column B or Facility, Column C.

29.5.2 Eligibility

[Revise 29.5.2 to read as follows:]

DFSS prices apply to eligible FSS pieces deposited at a USPS-designated FSS processing facility and correctly placed in a flat tray, sack, alternate approved container or on a pallet, labeled to a FSS scheme processed by that facility, under labeling list L006. These pieces must include a complete address and meet the physical standards for machinable flats in 201. Eligibility also applies to Carrier Route High Density containers properly prepared under 207.23 for FSS ZIPs.

* * * * *

240 Commercial Mail Standard Mail

* * * * *

243 Prices and Eligibility

* * * * *

3.0 Basic Eligibility Standards for Standard Mail

* * * * *

3.2 Defining Characteristics

* * * * *

3.2.2 Standard Mail Marketing Parcels

[Revise 3.2.2 by inserting a new last sentence to read as follows:]

* * * USPS Tracking is the only extra service available for Standard Mail Marketing parcels.

* * * * *

3.2.8 Extra Services

[Revise the text of 3.2.8 to read as follows:]

See information regarding available extra services under 503.0.

* * * * *

4.0 Price Eligibility for Standard Mail

* * * * *

4.2 Minimum Per Piece Prices

* * * * *

[Revise the third sentence of 4.2 item c to read as follows:]

* * * Except for Customized MarketMail pieces, discounted per piece prices also may be claimed for destination entry mailings (destination flat sequencing sorter (DFSS), destination network distribution center (DNDC), destination sectional center facility (DSCF), and destination delivery unit (DDU)) under 246.

* * * * *

4.3 Piece/Pound Prices

[Revise the last sentence of 4.3 to read as follows:]

* * * Discounted per pound prices also may be claimed for destination entry mailings (destination flat sequencing sorter (DFSS), destination network distribution center (DNDC), and destination sectional center facility (DSCF)) under 246.

* * * * *

5.0 Additional Eligibility Standards for Nonautomation Standard Mail Letters, Flats, and Presorted Standard Mail Parcels

* * * * *

5.6 Nonautomation Price Application—Flats

5.6.1 5-Digit Prices for Flats

The 5-digit price applies to flat-size pieces:

[Revise the text of 5.6.1 item a to read as follows:]

a. In a 5-digit/scheme bundle of 10 or more pieces, or 15 or more pieces, as applicable; properly placed in a 5-digit/scheme sack containing at least 125 pieces or 15 pounds of pieces.

* * * * *

5.6.2 3-Digit Prices for Flats

The 3-digit price applies to flat-size pieces:

* * * * *

[Delete 5.6.2 item c in its entirety.]

* * * * *

[Insert new 5.6.5 and 5.6.6 to read as follows:]

5.6.5 FSS Scheme Piece Price for Flats

The FSS Scheme Price applies to flat-size pieces:

a. In an FSS Scheme bundle of at least 10 or more pieces, no matter the container level.

b. The FSS Scheme Pallet price applies to the piece price for flat-sized pieces on a FSS scheme pallet with bundles of 10 or more FSS-schemed pieces properly prepared under 705.14.0.

5.6.6 Mixed ADC Prices for Flats

Mixed ADC prices apply to flat-size pieces in bundles that do not qualify for 5-digit, 3-digit, or ADC prices; placed in mixed ADC sacks or on ASF, NDC, or mixed NDC pallets under 705.8.0.

* * * * *

6.0 Additional Eligibility Standards for Enhanced Carrier Route Standard Mail Letters and Flats

* * * * *

6.3 Basic Price Enhanced Carrier Route Standards

* * * * *

6.3.3 Basic Price Eligibility-Flats

Basic prices apply to each piece in a carrier route bundle of 10 or more pieces that is:

* * * * *

[Delete 6.3.3 item e in its entirety]

[Add new item 6.3.4 to read as follows:]

6.3.4 Basic Carrier Route Bundles on a 5-digit Pallet (Basic-CR Bundles/Pallet) Price Eligibility-Flats

Basic—CR Bundles/Pallet prices apply to each piece in a carrier route bundle of 10 or more pieces that are palletized under 705.8.0 on a 5-digit carrier route or 5-digit scheme carrier route pallet entered at an Origin (None), DNDC, DSCF, or DDU entry.

* * * * *

6.5 High Density and High Density Plus (Enhanced Carrier Route) Standards—Flats

* * * * *

6.5.2 High Density and High Density Plus Prices for Flats

[Revise the introductory text of 6.5.2 to read as follows:]

High density or high density plus prices apply to each piece meeting the density standards in 6.5.1 or in a carrier route bundle of 10 or more pieces that is:

* * * * *

7.0 Eligibility Standards for Automation Standard Mail

* * * * *

7.5 Price Application for Automation Flats

[Revise 7.5 in its entirety to read as follows:]

Automation prices apply to each piece properly sorted into qualifying groups:

a. The 5-digit price applies to flat-size pieces in a 5-digit/scheme bundle of 10 or more pieces, or 15 or more pieces, as applicable;

b. The 3-digit price applies to flat-size pieces in a 3-digit/scheme bundle of 10 or more pieces.

c. The ADC price applies to flat-size pieces in an ADC bundle of 10 or more pieces.

d. The mixed ADC price applies to flat-size pieces in mixed ADC bundles (no minimum).

e. The FSS Scheme Pallet price applies to the piece price for flat-sized pieces on a FSS scheme pallet with bundles of 10 or more FSS-schemed pieces properly prepared under 705.14.0.

f. The FSS Other price applies to the piece price for flat-sized pieces in or on any container other than a FSS Scheme pallet with bundles of 10 or more FSS-schemed pieces properly prepared under 705.14.0.

g. The FSS Scheme Container price (DFSS Entry only) applies to the piece price for flat-sized pieces on or in a FSS scheme container with bundles of 10 or more FSS-schemed pieces properly prepared under 705.14.0 and dropped at a DFSS.

h. The FSS Facility Container (DFSS Entry Only) price applies to the piece price for flat-sized pieces in or on a FSS facility container with bundles of 10 or more FSS-schemed pieces properly prepared under 705.14.0 and dropped at a DFSS.

* * * * *

245 Mail Preparation

1.0 General Information for Mail Preparation

* * * * *

1.6 FSS Preparation

[Revise the text of 1.6 to read as follows:]

Except for Standard Mail flats mailed at Saturation, High Density, or High-Density Plus prices, all Standard Mail flats destinating to a FSS scheme in accordance with labeling list L006 must be prepared under 705.14.0.

* * * * *

246 Enter and Deposit

* * * * *

4.0 Destination Sectional Center Facility (DSCF) Entry

* * * * *

4.2 Eligibility

* * * * *

4.2.2 Flats

Pieces in a mailing that meet the standards in 2.0 and 4.0 are eligible for the DSCF price, as follows:

* * * * *

[Revise text of 4.2.2 item c to read as follows:]

c. DSCF prices apply to all pieces on or in a FSS Scheme or FSS Facility container when entered at a DSCF facility and any of the pieces on or in the container are addressed for delivery within that DSCF's service area. DSCF prices also apply to high density and high density plus carrier route containers entered at a DFSS facility.

[Insert a new item d to read as follows:]

d. DSCF prices apply to high density and high density plus pieces on a 5-digit or 5-digit scheme container entered at a Flat Sequencing System (FSS) facility for pieces that are not addressed for that facility's FSS ZIPs.

* * * * *

[Revise the title of 6.0 to read as follows:]

6.0 Destination Flat Sequencing System (DFSS) Facility Entry

6.1 Definition

[Revise the text of 6.1 to read as follows:]

Destination Flat Sequencing System (DFSS) refers to the facilities listed in L006.

6.2 Eligibility

[Revise the text of 6.2 to read as follows:]

DFSS prices apply to pieces deposited at a USPS-designated FSS processing site and correctly placed in or on a container labeled to a FSS scheme or FSS Facility processed by that site under labeling list L006 (Column B or Column C). These pieces must include a full delivery address and meet the physical standards for FSS machinability in 705.14.0.

* * * * *

260 Commercial Mail Bound Printed Matter

263 Prices and Eligibility

1.0 Prices and Fees for Bound Printed Matter

1.1 Nonpresorted Bound Printed Matter

Apply the prices and discounts for nonpresorted Bound Printed Matter (BPM) as follows:

1.1.1 Prices

[Revise text of 1.1.1 to read as follows:]

BPM prices are based on the weight of a single addressed piece or one pound, whichever is higher, and the zone to which the piece is addressed. The nonpresorted price applies to BPM not mailed at the Presorted, FSS scheme or carrier route prices. For prices, see Notice 123, Price List.

* * * * *

[Delete item 1.1.4 in its entirety.]

1.2 Commercial Bound Printed Matter

* * * * *

1.2.3 Price Application

[Revise the text of 1.2.3 to read as follows:]

The presorted, FSS scheme, FSS scheme container, and FSS facility container Bound Printed Matter price has a per piece charge and a per pound charge. The minimum postage price for an addressed piece is one unit of the per piece charge plus the per pound charge for an addressed piece weighing one pound. Deduct the Full-Service Intelligent Mail per-piece discount for each presorted flat (except pieces mailed at carrier route prices) that complies with the Full-Service Intelligent Mail option requirements under 705.23.0.

[Revise the title and text of 1.2.4 to read as follows:]

1.2.4 Bound Printed Matter Carrier Route Prices

Each piece is subject to both a piece price and a pound price. Deduct the Full-Service Intelligent Mail per-piece discount for each presorted flat that complies with the Full-Service Intelligent Mail option requirements under 705.23.0.

1.2.5 Bound Printed Matter Destination Entry Prices

[Revise the second sentence of 1.2.5 to read as follows:]

* * * Deduct the Full-Service Intelligent Mail per-piece discount for each presorted or Carrier Route barcoded flats that complies with the Full-Service Intelligent Mail option requirements under 705.23.0. * * *

1.2.6 Destination Entry Mailing Fee

[Revise the text of the last sentence of 1.2.6 to read as follows:]

* * * Payment of this fee is waived for mailers who present only qualified full-service flat-size automation mailings under 705.23.

* * * * *

1.2.8 Computing Postage for Permit Imprint

[Revise introductory text of 1.2.8 to read as follows:]

Presorted, FSS Presorted and Carrier Route Bound Printed Matter mailings paid with permit imprint are charged a per pound price and a per piece price as follows:

* * * * *

4.0 Price Eligibility for Bound Printed Matter

4.1 Price Eligibility

* * * Price categories are as follows:

* * * * *

[Revise the second sentence of item b to read as follows:]

b. Presorted Price. The Presorted price applies to BPM prepared in a mailing of at least 300 BPM pieces, prepared and presorted as specified in 265.5.0, 265.8.0, 705.8.0, and 705.21.

[Renumber current 4.1 items c as new item d, then, insert new item c to read as follows:]

* * * * *

c. FSS Scheme Presorted Price. This price applies to BPM flats prepared in a mailing of at least 300 BPM pieces, prepared and presorted as specified in 705.14.0.

* * * * *

[Revise the heading of 6.0 to read as follows:]

6.0 Additional Eligibility Standards for Full-Service Bound Printed Matter Flats

* * * * *

265 Mail Preparation

1.0 General Information for Mail Preparation

* * * * *

1.6 FSS Preparation

[Revise the text of 1.6 to read as follows:]

BPM flats claiming FSS presorted scheme prices, meeting the standards in 201.0 and destinating to a FSS scheme in accordance with labeling list L006, must be prepared under 705.14.0.

* * * * *

5.0 Preparing Presorted Flats

* * * * *

5.3 Sacking

* * * * *

5.3.4 Cosacking Presorted Mail With Barcoded Mail

[Revise the entire text of 5.3.4 to read as follows:]

The following standards apply if the mailing job contains a carrier route mailing, and a Presorted mailing, then the carrier route mailing must be prepared under 6.0, and the Presorted mailing must be co-sacked under 705.9.0. Bundled pieces must be co-sacked under 705.9.0.

* * * * *

7.0 Preparing Barcoded Flats

7.1 Basic Standards

[Revise the first sentence of 7.1 to read as follows:]

Flat-size Bound Printed Matter pieces claiming the Full-Service discount must be prepared under 7.0 and the eligibility standards for the price claimed. * * *

* * * * *

266 Enter and Deposit

* * * * *

5.0 Destination Sectional Center Facility (DSCF) Entry

5.1 Eligibility

Bound Printed Matter pieces in a mailing meeting the standards in 3.0 are eligible for the DSCF price when they meet all of the following additional conditions:

* * * * *

b. Are deposited at:

* * * * *

[Revise the text of 5.1b item 2 to read as follows:]

2. DSCF prices apply to all pieces on or in a FSS Scheme or FSS Facility container when entered at a DSCF facility when any of the pieces on or in the container are addressed for delivery within that DSCF's service area.

* * * * *

[Insert new 7.0 to read as follows:]

7.0 Destination Flat Sequencing System (DFSS) Facility Entry

7.1 Definition

Destination Flat Sequencing System Facility (DFSS) refers to the facilities listed in L006, Column C.

7.2 Eligibility

DFSS prices apply to pieces deposited at a USPS-designated FSS processing facility and correctly placed on a container labeled to a FSS scheme or a FSS facility processed by that facility or to a single 5-digit destination processed by that facility under labeling list L006. These pieces must include a full delivery address and meet the physical standards for FSS machinability in 705.14.0.

* * * * *

500 Additional Mailing Services

503 Extra and Additional Services

1.0 Basic Standards for All Extra Services

* * * * *

1.3 Paying Fees and Postage

[Revise the first sentence of 1.3 to read as follows:]

Except as provided under 604.6.1 and for official mail of federal government agencies collected under 703.7.0 (for Department of State, see 703.3.0), postage and extra service fees are paid at the time of mailing. * * *

1.4 Matter Eligible for Extra Services

1.4.1 Eligible Matter

One or more of the following extra or additional services may be added at the time of mailing, if the standards for the services are met and the applicable fees are paid, as follows:

Exhibit 1.4.1 Eligible Matter—Domestic Destinations

[Revise the entire Exhibit 1.4.1, Eligible Matter—Domestic Destinations, to read as follows:]

Extra service | Eligible mail class | Additional combined services
Registered Mail | Priority Mail | Registered Mail COD
Registered Mail Restricted Delivery | First-Class Mail | Return Receipt
| First-Class Package Service | Signature Confirmation
Certified Mail Certified Mail—Restricted Delivery | Priority Mail First-Class Mail | Return Receipt (Form 3811 only if with Adult Signature options ¹)
Certified Mail—Adult Signature ¹ | First-Class Package Service
Certified Mail—Adult Signature Restricted ¹
Insurance Insurance Restricted Delivery (If insured >$500.00.) (Note: Priority Mail Express includes $100.00 of insurance and Priority Mail includes either $100.00 or $50.00 of insurance (see 503.4.0), insurance >$500.00 includes Signature Confirmation.) | Priority Mail Express Priority Mail Critical Mail First-Class Mail First-Class Package Service Standard Post Bound Printed Matter | USPS Tracking Signature Confirmation (available if insured for <$500; included if insured for >$500.00.) Adult Signature Requested ¹ Adult Restricted Delivery ¹ Return Receipt (if insured >$500.00, Form 3811 only.)
| Library Mail Media Mail Parcel Select Parcel Select Lightweight (bulk insurance only) Standard Mail ⁷ (bulk insurance for (nonprofit) parcels only) | Special Handling—Fragile Parcel Airlift (PAL)
Certificate of Mailing (Form 3817 (retail use only) or Form 3665-Firm) for individual pieces only; Form 3665-Firm is for 3 or more pieces presented at one time (see 5.0) | Priority Mail First-Class Mail First-Class Package Service Standard Post Bound Printed Matter Library Mail Media Mail | Special Handling—Fragile Parcel Airlift (PAL)
Certificate of Bulk Mailing (Form 3606; only evidence of number of identical weight piece mailed (see 5.0). | Priority Mail First-Class Mail First-Class Package Service | Special Handling—Fragile Parcel Airlift (PAL)
| Standard Post Parcel Select Parcel Select Lightweight
| Standard Mail ⁷ Bound Printed Matter Library Mail Media Mail
Return Receipt (Form 3811 must bear an IMpb linked to the IMb for the host extra service for the appended mailpiece.) | Priority Mail Express (Form 3811 only). Priority Mail ³ First-Class Mail ³ First-Class Package Service ³ | USPS Tracking. Signature Confirmation Restricted Delivery Signature Confirmation ⁶ Special Handling
| Standard Mail (parcels only) 2 3 7 Parcel Select ⁴ Parcel Select Lightweight ³ Standard Post ⁴ Bound Printed Matter ⁴ Library Mail ⁴ | Adult Signature Requested ¹ (Form 3811 only) Adult Signature Restricted Delivery ¹ (Form 3811 only) Parcel Airlift (PAL)
| Media Mail ⁴
USPS Signature Services
Signature Confirmation | Priority Mail Critical Mail First-Class Mail (parcels only; electronic option only) First-Class Package Service (electronic option only) | Collect on Delivery (COD) Insurance Registered Mail Return Receipt ⁶ (Form 3811 only) Special Handling Hold For Pickup
| Standard Post
| Parcel Select
| Parcel Select Lightweight
| Bound Printed Matter
| Library Mail
| Media Mail
Signature Confirmation Restricted Delivery | Priority Mail ³ | Collect on Delivery (COD)
| First-Class Mail 2 3 | Insurance
| First-Class Package Service | Registered Mail
| Standard Post ⁵ | Return Receipt ⁶ (Form 3811 only)
| Parcel Select ⁵ | Special Handling
| Parcel Select Lightweight ⁴ | Hold For Pickup
| Bound Printed Matter ⁵
| Library Mail ⁵
| Media Mail ⁵
Adult Signature Required ¹ | Priority Mail Express | Insurance
Adult Signature Restricted Delivery ¹ | Priority Mail Critical Mail | Return Receipt (Form 3811 only) Hold For Pickup
| First-Class Mail ²
| First-Class Package Service ³
| Parcel Select
| Parcel Select Lightweight
| Bound Printed Matter ²
| Library Mail ²
| Media Mail ²
USPS Tracking (USPS Tracking is provided at no additional charge for all classes of mail (excludes Periodicals and Standard Mail parcels.) | Standard Mail (parcels only; electronic option only 1 2) | Insurance (bulk insurance (for Standard Mail (nonprofit) parcels) only 1 2)
Collect on Delivery (COD) COD Restricted Delivery | Priority Mail Express (1-Day and 2-Day only) Priority Mail | Registered Mail Return Receipt
| First-Class Mail First-Class Package Service Signature Confirmation ² (not available for purchase with Priority Mail Express COD) | Special Handling—Fragile
| Standard Post Parcel Select Bound Printed Matter Library Mail Media Mail | Hold For Pickup
Return Receipt for Merchandise | Priority Mail | USPS Tracking Insurance ¹
| Standard Mail (machinable and irregular parcels only) ⁷ Parcel Select | Special Handling Parcel Airlift (PAL) (see 703.2.0) 1. If insured for $200.00 or less
| Standard Post Bound Printed Matter
| Library Mail Media Mail
Special Handling
Special Handling—Fragile | Priority Mail Express | Collect On Delivery (COD)
| Priority Mail | Insurance
| First-Class Mail | Signature Confirmation ²
| First-Class Package Service | Parcel Airlift (PAL)
| Standard Post Parcel Select Bound Printed Matter Library Mail Media Mail
¹ Not at retail.
² Parcels only.
³ If purchased with Certified Mail, COD, insurance over $500.00 or Registered Mail.
⁴ If purchased with bulk insurance over $500.00.
⁵ If purchased with COD or insurance over $500.00.
⁶ If purchased with insurance over $500.00, COD, Registered Mail, or Signature Confirmation Restricted Delivery.
⁷ Excludes Marketing Parcels.

1.4.2 Offshore Domestic Destinations

[Revise the text of 1.4.2 to read as follows:]

As provided for the classes of mail under 1.4.1, and unless otherwise restricted (also see “Overseas Military/Diplomatic Mail” and “Freely Associated States (FAS)” sections of the Postal Bulletin), extra services are available for mail addressed to APO/FPO destinations (also see 703), and to ZIP Codes in U.S. territories and possessions (also see 608.2.0), or Freely Associated States (also see 608.2.0), as follows:

Exhibit 1.4.2 Eligible Matter—Offshore Domestic Destinations

[Revise Exhibit 1.4.2 to read as follows:]

Extra service | APO/FPO | U.S. territories and possessions | Freely associated states
Registered Mail | Limited ¹ (Available only to select APO/FPO destinations.) | Yes | Yes.
Certified Mail | Yes | Yes | Yes.
Certified Mail Restricted Delivery | Yes | Yes | Yes.
Certified Mail Adult Signature Required | No | Yes | No.
Certified Mail Adult Signature Delivery | No | Yes | No.
Insurance (< or = $500.00) | Yes | Yes | Yes.
Insurance (>$500.00) | Limited ² | Yes | Yes.
Insurance Restricted Delivery | Limited ² | Yes | Yes.
Certificate of Mailing | Yes | Yes | Yes.
USPS Tracking | Limited ¹ | Yes | Yes.
USPS Signature Service
Signature Confirmation | No | Yes | No.
Signature Confirmation Restricted Delivery | No | Yes | No.
Adult Signature Requested | No | Yes | No.
Adult Signature Restricted Delivery | No | Yes | No.
COD | No | Yes | Limited.³
Return Receipt for Merchandise | Yes | Yes | Yes.
Special Handling
Special Handling—Fragile | Yes | Yes | Yes.
¹ If insured for more than $500.00, signature service provided only if hardcopy return receipt (form 3811) is also purchased.
² Availability of electronic information regarding an event scan may be limited.
³ Except for items sent to Marshall Islands and the Federated States of Micronesia.

1.4.3 Domestic Returns

Extra services for return mailpieces are available as follows:

Exhibit 1.4.3 Eligible Matter—Domestic Returns

[Revise Exhibit 1.4.3 to read as follows:]

Return service | Eligible extra services (paid by permit holder) | Eligible extra services (paid by permit holder or sender)
Merchandise Return Service | Registered Mail: Insurance < or = $500.00 1 2 Insurance >$500.00 1 2 4 | Registered Mail: Insurance < or = $500.00.1 2 Insurance >$500.00.1 2 4
| Return Receipt for Merchandise | Return Receipt for Merchandise.
| Special Handling—Fragile | Special Handling—Fragile Certificate of Mailing.³
Priority Mail Return Service | Insurance < or = $500.00 ² | Insurance < or = $500.00.²
First-Class Package Return Service | Insurance >$500.00 2 4 | Insurance >$500.00.2 4
Ground Return Service
Parcel Return Service | Insurance < or = $500.00 ² | Insurance < or = $500.00.²
| Insurance >$500.00 2 4 | Insurance >$500.00.2 4 Certificate of Mailing.³
¹ Insurance may be combined with Special Handling.
² Insurance must be purchased; no included insurance is provided for returns.
³ Individual pieces using Form 3817 or Form 3665 by sender only.
⁴ Signature service is not provided for items insured for >$500.

* * * * *

1.7 Forms and Labels

* * * * *

1.7.2 Privately Printed Forms or Labels

[Revise the third sentence of 1.7.2 to read as follows:]

* * * Customers affixing both a barcoded address label and a barcoded extra service label on the same mailpiece must ensure that the barcodes on both labels match. * * *

* * * * *

1.7.4 Acceptance

Customers must also meet the following requirements when presenting mail bearing an extra service IMpb for acceptance:

[Revise the text of 1.7.4 item a to read as follows:]

a. Certificates of mailing using Form 3655-Firm or Form 3606-D when at least 50 pieces or 50 pounds (whichever amount is met first) of corresponding articles presented at one time, or for presorted or permit imprint mailings containing pieces with extra services, must be presented to a Post Office business mail entry unit (BMEU) or authorized detached mail unit (DMU).

* * * * *

1.8 Obtaining Delivery Information and Delivery Records

Delivery records for extra services are available as follows:

[Revise the text of 1.8 items a and c to read as follows:]

a. Information by article number can be retrieved at www.usps.com or by calling 1-800-222-1811. A proof of delivery letter (including recipient's signature, when available) may be provided by email.

* * * * *

c. A return receipt (hardcopy Form 3811) may be purchased at the time of mailing and is received by mail.

* * * * *

1.10 Receipts

[Revise the text of the first and third sentence of 1.10, then, insert a new final sentence of 1.10 to read as follows:]

Except when using Certificate of Mailing Form 3655-Firm and Form 3606-D when presenting less than 50 pieces or 50 pounds (whichever amount is met first) of corresponding articles at one time, the mailer receives a USPS sales receipt and the postmarked (round-dated) extra service form for services purchased at retail channels. * * * For three or more pieces with extra or accountable services (includes international certificate of mailing) presented for mailing at one time, the mailer uses Form 3877 (firm sheet) or USPS-approved privately printed firm sheets in lieu of the receipt portion of the individual form. * * * Except for Registered Mail and COD items, the USPS keeps no mailing records for pieces bearing extra services.

[Delete current 1.11, USPS Mailing Records, in its entirety (text relocated to 1.10).]

2.0 Registered Mail

2.1 Basic Standards

2.1.1 Description

[Revise the introductory text of 2.1.1 to read as follows:]

Registered Mail is subject to the basic standards in 1.0; see 1.4 for eligible matter. Registered Mail is the most secure service that the USPS offers. It incorporates a system of receipts to monitor the movement of the mail from the point of acceptance to delivery. Registered Mail provides the sender with a mailing receipt and, upon request (see 1.8), electronic verification that an article was delivered or that a delivery attempt was made. Customers may obtain a record of delivery (which includes the recipient's signature) by purchasing a return receipt (6.0), at the time of mailing. Customers may direct delivery of Registered Mail only to the addressee (or addressee's authorized agent) using Registered Mail Restricted Delivery (2.1.4). Postal insurance is included in the fee for articles with a value of at least $0.01 up to a maximum insured value of $50,000.00. Postal insurance is not available for articles with no value ($0.00). The fees for articles valued over $50,000.00 include insurance up to $50,000.00, and increasingly higher fees for handling costs. The face (address side) of a registered article must be at least 5 inches long and 3½ inches high, regardless of thickness. Registration may not be obtained for the following item if:

* * * * *

[Revise the text of item c to read as follows:]

c. Prepared improperly or packed inadequately to withstand normal handling (see 2.3.4).

* * * * *

[Revise the text of item f. to read as follows:]

f. A class of mail not listed under eligible matter (see 1.4).

2.1.2 Label 200

[Revise the first sentence of 2.1.2 to read as follows:]

Registered Mail must bear the barcoded red Label 200 (see forms at http://pe.usps.gov/), or a non-barcoded red Label 200-N (when a mailer-generated shipping label bearing an IMpb (under 708.5.0) is also affixed on the same mailpiece). * * *

* * * * *

[Insert new items 2.1.4 and 2.1.5 to read as follows:]

2.1.4 Additional Standards for Registered Mail Restricted Delivery

Registered Mail Restricted Delivery permits a mailer to direct delivery only to the addressee (or addressee's authorized agent). The addressee must be an individual (natural person) specified by name. The mailer may request Registered Mail Restricted Delivery at the time of mailing by advising the USPS clerk or by marking the mail “Restricted Delivery” above the address and to the right of the return address, and paying the applicable fee. A firm mailer must enter the proper fee in the correct column of the firm sheet and place the required endorsement on the mail. Customers may obtain a record of delivery (which includes the recipient's signature) by purchasing a return receipt (6.0). If a return receipt is requested, the correct block on Form 3811 must be checked to show that restricted delivery is also required. Mail marked “Restricted Delivery” is delivered under the conditions in 508.1.1.7 and 1.1.8.

2.1.5 Registered COD Mail

Sealed domestic mail bearing First-Class Mail, First-Class Package Service, or Priority Mail postage may be sent as registered COD mail when meeting the standards in 9.0 and as follows:

a. Such mail is handled the same as other Registered Mail.

b. The maximum amount collectible from the recipient on one article is $1,000.00. Indemnity is available up to the registry limit of $50,000.00 by paying the registry fee for the value declared. The total fees charged for registered COD service include the proper registry fee for the value declared plus the registered COD fee. The mailer must declare the full value of the article being mailed, regardless of the amount to be collected from the recipient.

c. The registered label and the COD form must be affixed to each article. The registration number is used for delivery receipt and indemnity claims.

* * * * *

3.0 Certified Mail

3.1 Basic Standards

3.1.1 Description

[Revise the text of 3.1.1 to read as follows:]

Certified Mail is subject to the basic standards in 1.0; see 1.4 for eligible matter. Certified Mail provides the sender with a mailing receipt and, upon request, electronic verification that an article was delivered or that a delivery attempt was made. Customers can retrieve the delivery status as provided in 1.8. Certified Mail is dispatched and handled in transit as ordinary mail. Except for Priority Mail pieces with included insurance, no insurance coverage is provided when purchasing Certified Mail. USPS maintains a record of delivery (which includes the recipient's signature). Customers may obtain a delivery record by purchasing a return receipt (6.0) at the time of mailing. Customers may direct delivery of Certified Mail only to the addressee (or addressee's authorized agent) using Certified Mail Restricted Delivery (3.2.2); or to an adult using Certified Adult Signature Required or Certified Adult Signature Restricted Delivery when meeting the applicable standards for Adult Signature under 8.1.1e and 8.1.3.

3.2 Mailing

3.2.1 Form 3800

* * *A mailer of Certified Mail must:

* * * * *

[Revise the text of 3.2.1 item e to read as follows:]

e. For Certified Mail Restricted Delivery, meet the additional standards under 3.2.2).

[Insert new item 3.2.2 to read as follows:]

3.2.2 Additional Standards for Certified Mail Restricted Delivery

Certified Mail Restricted Delivery permits a mailer to direct delivery only to the addressee (or addressee's authorized agent). The addressee must be an individual (natural person) specified by name. The mailer may request Certified Mail Restricted Delivery at the time of mailing by advising the USPS clerk or by marking the mail “Restricted Delivery” above the address and to the right of the return address and paying the applicable fee. A firm mailer must enter the proper fee in the correct column of the firm sheet and place the required endorsement on the mail. Customers may obtain a record of delivery (which includes the recipient's signature) by purchasing a return receipt (6.0). If a return receipt is requested, the correct block on Form 3811 must be checked to show that restricted delivery is also required. Mail marked “Restricted Delivery” is delivered under the conditions in 508.1.1.7 and 1.1.8.

4.0 Insured Mail

* * * * *

4.1.1 Additional Insurance—Priority Mail Express

[Revise the text of 4.1.1 to read as follows:]

Additional insurance, up to a maximum coverage of $5,000.00, may be purchased for merchandise valued at more than $100.00 sent by Priority Mail Express. The additional insurance fee is in addition to postage and other fees. See Notice 123—Price List. The insurance fee is entered in the block marked “Insurance” on the mailing label. If the label does not contain this block, the mailer uses the “COD” block by crossing out “COD,” writing “INS” to the right, and entering the fee for the coverage. Coverage is limited to the actual value of the contents, regardless of the fee paid, or the highest insurance value increment for which the fee is fully paid, whichever is lower. When “signature required” service is not requested or when “waiver of signature” is requested, additional insurance is not available.

[Delete 4.1.2, Fees for Priority Mail Express Insurance, in its entirety (text relocated to 4.1.1).]

4.2 Insurance Coverage—Priority Mail

Priority Mail pieces bearing an Intelligent Mail package barcode (IMpb) or USPS retail tracking barcode (see 4.3.4) are insured against loss, damage, or missing contents, up to a maximum of $50.00 or $100.00, subject to the following:

* * * * *

[Delete 4.2 item e in its entirety, then, renumber current items f and g as new items e and f.]

* * * * *

4.3 Basic Standards

4.3.1 Description

[Revise the introductory text of 4.3.1 to read as follows:]

Insured mail is subject to the basic standards in 1.0; see 1.4 for eligible matter. The following additional standards apply to insured mail:

* * * * *

[Revise the text of 4.3.1 item c to read as follows:]

c. Insured mail provides the mailer with a mailing receipt. No record of insured mail is kept at the office of mailing; however, the USPS maintains insured mail delivery records for a period of time. An item insured for $500.00 or less receives a delivery scan. An item insured for more than $500.00 receives a delivery scan (includes returns products meeting the applicable standards in 505.0) and the USPS obtains and provides the recipient's signature as the delivery record to the mailer electronically (excludes returns products). Customers may optionally obtain a delivery record by purchasing a hardcopy return receipt (Form 3811; also see 6.0; excludes returns products). Customers may direct delivery of mail insured for more than $500.00 only to the addressee (or addressee's authorized agent) using Insurance Restricted Delivery (4.5);

* * * * *

4.3.2 Ineligible Matter

The following types of mail may not be insured:

* * * * *

[Delete 4.3.2 item e in its entirety (eligible matter provided under 1.4), then, renumber item f as new item e.]

f. Matter mailed at First-Class Mail prices (including Priority Mail) that consists of items described in 123.3.0,133.3.0, 233.2.0, and 283.2.0, and required to be mailed at First-Class Mail prices.

* * * * *

4.3.4 Markings and Forms

[Revise the introductory text of 4.3.4 to read as follows.]

The treatment of pieces is determined by the insurance amount as described in 4.3.1c and under the following conditions:

[Revise the text of 4.3.4 items a and b to read as follows:]

a. For retail pieces insured for $500.00 or less, the mailer must affix a barcoded Form 3813 (see forms at http://pe.usps.gov/) to each piece above the delivery address and to the right of the return address.

b. For retail pieces insured for more than $500.00, the mailer must affix a barcoded Form 3813-P (see forms at http://pe.usps.gov/) to each piece above the delivery address and to the right of the return address.

* * * * *

[Revise the second sentence of 4.3.4 item d to read as follows:]

d. * * * Mailing receipts are provided under 1.10.

* * * * *

[Revise the title of 4.4, Bulk Insurance for Standard Mail, to read as follows:]

4.4 Bulk Insurance for Standard Mail and Parcel Select Lightweight

4.4.1 Eligibility

[Revise the introductory text of 4.4.1 to read as follows:]

To mail at the bulk insurance prices, for Standard Mail (except Marketing Parcels) and Parcel Select Lightweight, mailers must obtain an authorization under 4.4.2 and meet the following criteria:

* * * * *

[Insert new 4.5 to read as follows:]

4.5 Additional Standards for Insurance Restricted Delivery

Insurance Restricted Delivery permits a mailer to direct delivery only to the addressee (or addressee's authorized agent). The addressee must be an individual (natural person) specified by name. The mailer may request Insurance Restricted Delivery at the time of mailing by advising the USPS clerk or by marking the mail “Restricted Delivery” above the address and to the right of the return address and paying the applicable fee. A firm mailer must enter the proper fee in the correct column of the firm sheet and place the required endorsement on the mail. Customers may obtain a record of delivery (which includes the recipient's signature) by purchasing a return receipt (6.0). If a return receipt is requested, the correct block on Form 3811 must be checked to show that restricted delivery is also required. Mail marked “Restricted Delivery” is delivered under the conditions in 508.1.1.7 and 1.1.8.

[Revise the title of 5.0 to read as follows:]

5.0 Certificates of Mailing

5.1 Basic Standards

5.1.1 Description—Individual Pieces

[Revise the text of 5.1.1 to read as follows:]

Certificates of mailing are subject to the basic standards in 1.0, see 1.4 for eligible matter. Certificates of mailing (Form 3817 and barcoded Form 3665-Firm, including USPS-approved facsimiles) are available only at the time of mailing and provide evidence that individual mailpieces have been presented to the USPS for mailing. Certificates of mailing do not provide a record of delivery, and the Postal Service does not retain copies of either form. Form 3817 is available for less than three individual pieces, presented at one time at a retail Post Office, station or branch). Form 3665-Firm is available for three or more pieces, but fewer than 50 pieces or 50 pounds (whichever amount is met first), presented at one time at a retail post office, station or branch, or for three or more pieces, but at least 50 pieces or 50 pounds (whichever amount is met first), presented at a BMEU or USPS authorized DMU). Each individual Form 3817 or the Form 3665-Firm is postmarked (round-dated) at the time of mailing; the form(s) are then returned to the mailer and become the mailer's receipt. Mailers may use USPS-approved privately printed facsimiles of Form 3877 firm sheets as domestic certificates of mailing in lieu of the Form 3665.

[Delete 5.1.2, Eligible Matter—Single Piece, in its entirety (context of text already under 1.4 for eligible matter), then, renumber current 5.1.3 through 5.1.7 as new 5.1.2 through 5.1.6.]

5.1.2 Paying Fees

[Revise the first sentence of renumbered 5.1.2 to read as follows:]

For Certificate of Mailing, in addition to the correct postage, the applicable Certificate of Mailing fee must be paid for each article on Form 3817 or listed on Form 3665-Firm and for duplicate copies of either form. * * *

5.1.3 Mailer Preparation

[Revise the text of renumbered 5.1.3 to read as follows:]

A Certificate of Mailing must be completed by the mailer and all entries must be typed or printed in ink, by ballpoint pen, or computer-generated; the form or firm sheets become the mailer's receipts. Individual certificate and firm mailings must show the names and addresses of the sender and addressee and may show the amount of postage paid. The mailer may also place identifying invoice or order numbers on the certificate as a reference.

[Revise the title of renumbered 5.1.4 to read as follows:]

5.1.4 Firm Mailings—Three or More Pieces

When the number of articles presented justifies such action, the mailer must comply with these standards:

* * * * *

[Revise the text of 5.1.4 item b to read as follows:]

b. When the mailer describes and lists three or more individual pieces on Form 3665-Firm, but does not present the pieces in the order shown on the sheets, the mailer must consecutively number each entry line on the sheet and lightly number each piece to show both the corresponding sheet and line number.

5.1.5 Duplicate Copies—After Mailing

[Revise the first sentence of renumbered 5.1.5 to read as follows:]

To obtain a duplicate copy of the certificate after mailing (Form 3817 only), the mailer must present the original postmarked certificate and an additional certificate endorsed “Duplicate” or a copy showing the original dates of mailing. * * *

5.1.6 Presenting to Rural Carrier

[Revise the text of renumbered 5.1.6 to read as follows:]

For certificate of mailing (Form 3817 only), a mailer may provide mail to the rural carrier with the fee for the certificate. The carrier obtains the certificate at the Post Office, attaches the stamps, obtains the postmark (round-date) on the certificate on the day of mailing, and delivers the certificate to the mailer on the next trip.

5.2 Other Bulk Quantities—Certificate of Bulk Mailing

5.2.1 Description

[Revise the text of 5.2.1 to read as follows:]

Certificate of Bulk Mailing is subject to the basic standards in 1.0; see 1.4 for eligible matter. Form 3606-D, or USPS-approved facsimile, is available only at the time of mailing and is used to specify only the number of identical-weight pieces mailed; it does not provide evidence that a piece was mailed to a particular address. The Form 3606-D is postmarked (round-dated) at the time the mailing is presented and returned to the mailer as their receipt. Form 3606-D is available for identical-weight mailings of fewer than 50 pieces or 50 pounds (whichever amount is met first) presented at any retail Post Office, station or branch, or, for mailings of at least 50 pieces or 50 pounds (whichever amount is met first) presented at a BMEU or USPS authorized DMU. Certificate of Bulk Mailing service does not provide a record of delivery and the Postal Service does not retain any copies of Form 3606-D. The Form 3606-D cannot be used as a certificate of mailing of individual mailpieces or itemized lists. Mailers may use USPS-approved privately printed facsimiles of Form 3606 for domestic certificates of bulk mailings in lieu of the Form 3606-D.

5.2.2 Paying Fees

[Revise the text of 5.2.2 to read as follows:]

The applicable Certificate of Bulk mailing fee must be paid for mailings of identical-weight pieces reported on Form 3606-D, or for additional copies of the form if requested at the time of mailing, in addition to the correct postage. Mailers using Form 3606-D may affix ordinary stamps or postage evidencing indicia on the form to pay the fee. When postage evidencing indicia are used, they must bear the full numerical value of the fee in the imprint. Mailers using Form 3606-D with a permit imprint mailing also may pay certificate of mailing fees, at the time of mailing, using the same permit imprint.

6.0 Return Receipt

6.1 Basic Standards

6.1.1 Description

[Revise the text of 6.1.1 to read as follows:]

Return Receipt service is subject to the basic standards in 1.0; see 1.4 for eligible matter. A return receipt may be purchased at the time of mailing and provides a mailer with evidence of delivery (to whom the mail was delivered and date of delivery), and information about the recipient's actual delivery address. A mailer purchasing a return receipt may choose to receive the return receipt by mail (Form 3811) or electronically (by email, or by signature extract file format under 1.8). A complete return address is required on the mailpiece when a return receipt is requested. For Priority Mail Express (Form 3811 option only), the return address on the Priority Mail Express label meets this requirement. The unique barcode on a return receipt must be electronically linked to the separate barcode for the host extra service (for additional information, see the Intelligent Mail Package Barcode (IMpb) Implementation Guide available on RIBBS).

* * * * *

6.2 Obtaining Service

* * * * *

[Delete the heading 6.2.1, At Time of Mailing.]

[Delete items 6.2.2, After Mailing, and 6.2.3, Time Limit, in their entirety.]

6.3 Other Requests for Delivery Information

6.3.1 Receipt Not Received

[Delete the heading 6.3.1, Receipt Not Received, and revise the text of former 6.3.1 to read as follows:]

A mailer who did not receive a return receipt (Form 3811) for which the mailer had paid may request information from the delivery record within 90 days of the date of purchase using Form 3811-A. The mailer must complete Form 3811-A, at any Post Office, station or branch, and produce their receipt showing that the applicable return receipt fee was paid.

[Delete 6.3.2, Form 3811-A, in its entirety (text relocated to 6.3.1).]

[Delete sections 7.0, Restricted Delivery, through 9.0 Return Receipt for Merchandise, in their entirety, then, renumber current 10.0 through 15.0 as new 7.0 through 12.0.]

* * * * *

7.0 USPS Tracking

7.1 Basic Standards

7.1.1 Description

[Revise the text of renumbered 7.1.1 to read as follows:]

USPS Tracking is subject to the basic standards in 1.0; see 1.4 for eligible matter. USPS Tracking provides the mailer with information about the date and time an article was delivered or the date and time of the delivery attempt. See 1.8 to obtain delivery information. USPS Tracking is available only at the time of mailing. No record is kept at the office of mailing. USPS Tracking does not include insurance, but insurance may be purchased as an additional service unless otherwise restricted. Some statutes governing the mailing of legal documents may require the use of Certified Mail or Registered Mail, rather than USPS Tracking.

[Revise the title of and insert a new first and second sentence to renumbered 7.1.2 as follows:]

7.1.2 Electronic Option USPS Tracking for Standard Mail Parcels

Electronic option USPS Tracking may be purchased for Standard Mail parcels for mailers using privately printed forms or labels, or Label 400, and who establish an electronic link with the USPS to exchange acceptance and delivery data. Mailers wishing to obtain a mailing receipt may use Form 3877. * * *

* * * * *

7.1.3 Additional Physical Standards

[Revise the introductory text of renumbered 7.1.3 to read as follows:]

In addition to the applicable standards in 101, 201.7.0, and 201.8.0, all parcels must be large enough to hold the required delivery address, return address, mailing labels, postage, barcode, endorsements, and other mail markings on the address side of the parcel. In addition to the applicable standards in 101 and 201 and for the purposes of USPS Tracking with Standard Post, Media Mail, Library Mail, Bound Printed Matter, or Parcel Select, the parcel must meet these additional requirements:

[Delete 7.1.3 item a in its entirety (context of text relocated to introductory text), then, renumber current items b and c as new a and b.]

* * * * *

[Delete renumbered 7.1.4, Service Options, in its entirety (appropriate text relocated to either 7.1.2 or 7.2.1 as only electronic option remains).]

7.2 Labels

7.2.1 Types of Labels

[Revise the text of renumbered 7.2.1 to read as follows:]

Mailers using privately printed USPS Tracking labels must meet the requirements in 1.8. Mailers not printing their own privately printed labels must use one of the label options as follows:

a. Label 400 may be used by: Electronic option mailers, USPS retail associates when affixed to mailpieces at a Post Office, station, or branch, or by mailers when affixed to mailpieces with postage and fees prepaid by metered indicia or ordinary stamps. A mailing receipt is provided to mailers who present mailpieces with an affixed Label 400 at a Post Office, branch, or station, or to their USPS carrier (except under 507.7.2.2). A mailer may also present mailpieces to a retail employee at a Post Office, station, or branch; and the retail associate will affix a USPS Tracking label to the item.

b. Unique, product specific USPS-provided tracking labels are for use by electronic option mailers. The labels are populated with the product service type code and customer's Mailer Identification (MID) number in the Intelligent Mail package barcode (IMpb).

* * * * *

[Revise the title of renumbered 8.0 to read as follows:]

8.0 USPS Signature Services

8.1 Basic Standards

8.1.1 Description

[Revise the entire text of renumbered 8.1.1 to read as follows:]

USPS Signature Services include Signature Confirmation, Signature Confirmation Restricted Delivery, Adult Signature Required, and Adult Signature Restricted Delivery, all of which are subject to the basic standards in 1.0; see 1.4 for eligible matter. Some statutes governing the mailing of legal documents may require the use of Certified Mail or Registered Mail rather than USPS Signature Services. USPS Signature Services are available as follows:

a. Signature Confirmation provides the mailer with information about the date and time an article was delivered or the date and time of the delivery attempt. A delivery record (including the recipient's signature) is maintained by the USPS and is available electronically or by email, upon request. The Signature Confirmation is available as a Retail option: Available at Post Offices at the time of mailing; a mailing receipt is provided. Electronic option: Available to mailers who establish an electronic link with the USPS to exchange acceptance and delivery data; no mailing receipt is provided.

b. Signature Confirmation Restricted Delivery provides the same service as provided under item a and permits a mailer to direct delivery only to the addressee (or addressee's authorized agent). The addressee must be an individual (natural person) specified by name. The mailer may request Insured Restricted Delivery at the time of mailing by advising the USPS clerk or by marking the mail “Restricted Delivery” above the address and to the right of the return address and paying the applicable fee. A firm mailer must enter the proper fee in the correct column of the firm sheet and place the required endorsement on the mailpiece.

c. Adult Signature service provides electronic confirmation of the delivery or attempted delivery of the mailpiece and signature of the recipient, who must be 21 years of age or older. Prior to delivery, the recipient must furnish proof of age via a driver's license, passport, or other government-issued photo identification that lists age or date of birth. The USPS maintains a record of delivery (including the recipient's signature) for two years. The Adult Signature options are:

1. Adult Signature Required—provides delivery to a person who is 21 years of age or older. Upon delivery, an adult who is 21 years of age or older must provide one of the forms of identification listed above and provide a signature for receipt of the mailpiece.

2. Adult Signature Restricted Delivery—provides Adult Signature Required with the additional restriction of limiting delivery to a specific addressee or authorized agent who is 21 years of age or older. If the specific individual is not 21 years of age or older, the mailpiece will be returned to sender.

[Revise the title and text of renumbered 8.1.2 to read as follows:]

8.1.2 Additional Standards for Signature Confirmation

For Signature Confirmation with Standard Post, Media Mail, Library Mail, Bound Printed Matter, or Parcel Select pieces meeting the physical standards under 201.7, the parcel must meet these additional requirements:

a. The surface area of the address side of the parcel must be large enough to contain completely and legibly the delivery address, return address, postage, and any markings, endorsements, and extra service labels.

b. Except as provided in (12.1.2c.) for machinable parcels, the parcel must be greater than ¾ inch thick at its thickest point.

c. If the mailpiece is a machinable parcel under 201.7.0 and no greater than ¾ inch thick, the contents must be prepared in a strong and rigid fiberboard box or similar container or in a container that becomes rigid after the contents are enclosed and the container is secured. The parcel must be able to maintain its shape, integrity, and rigidity throughout processing and handling without collapsing into a letter-size or flat-size piece.

d. Mailers must use one of the following labels:

1. Form 153 (see forms at http://pe.usps.gov/), obtained from the Post Office at no charge, may be used only with the retail option.

2. Label 315 electronic Signature Confirmation is available to electronic option mailers.

3. Privately printed barcoded labels must meet the requirements in 1.8. On the Priority Mail label, mailers must use the registered trademark symbol following the Priority Mail text or add the following statement at the bottom of the label in at least 6-point Helvetica type: “Priority Mail is a registered trademark of the U.S. Postal Service.” See Parcel Labeling Guide or Publication 97 available on RIBBS.

e. The barcoded label section of Label 315 or Form 153 (see forms at http://pe.usps.gov/) must be placed completely on the address side either above the delivery address and to the right of the return address, or to the left of the delivery address. A privately printed Signature Confirmation label that is separate from a privately printed address label must be placed in close proximity to the address label.

[Delete renumbered 8.1.3, Service Options, in its entirety (context of text relocated to 8.1.2), then insert new 8.1.3 as follows:]

8.1.3 Additional Standards for Adult Signature Service

Customers may obtain Adult Signature Required and Adult Signature Restricted Delivery by producing qualified shipping labels with Intelligent Mail package barcodes. The Adult Signature Required or Adult Signature Restricted Delivery fee must be paid in addition to the correct postage using Click-N-Ship, PC Postage, Permit imprint (if the customer electronically submits postage statements and mailing documentation) or IBI postage meter. Conditions in 8.3.1 and 8.3.2 also apply to Adult Signature Restricted Delivery items. A shipment of cigarettes and smokeless tobacco with Adult Signature service, mailed by certain individuals under 601.9.0, requires the mailer to present items at a retail counter.

[Delete renumbered 8.2, Labels, in its entirety (context of text relocated to 8.1.2).]

9.0 Collect on Delivery (COD)

9.1 Basic Standards

9.1.1 Description

[Revise the text of renumbered 9.1.1 to read as follows:]

Collect on delivery (COD) is subject to the basic standards in 1.0; see 1.4 for eligible matter. Any mailer may use COD to mail an article (using a unique COD number for each article) for which the mailer has not been paid and have its price and the cost of the postage collected (not to exceed $1,000.00) from the addressee (or agent). COD service provides the mailer with a mailing receipt and the USPS maintains a record of delivery (including the recipient's signature). The recipient has the option to pay the COD charges (with one form of payment) by cash, or a personal check or money order made payable to the mailer (accepted by the USPS employee upon the recipient's presentation of adequate identification). The USPS forwards the check or money order to the mailer. If payment is made by cash, a money order fee is included in the amount collected from the recipient (unless the mailer is authorized to participate in EFT for the remittance), in addition to the COD amount. The Postal Service cannot intervene in disputes between mailers and recipients of COD mail after payment was returned to the mailer. Customers may obtain a delivery record by purchasing a return receipt. Bulk proof of delivery service (7.0) is also available if electronic return receipt service is purchased at the time of mailing.

* * * * *

9.1.3 Registered COD Mail

[Revise the text of renumbered 9.1.3 to read as follows (text relocated under 2.1.5, Registered COD):]

Sealed domestic mail bearing First-Class Mail, First-Class Package Service, or Priority Mail postage may be sent as registered COD mail as provided under 9.0 and 2.1.5.

* * * * *

10.0 Special Handling

10.1 Basic Standards

10.1.1 Description

[Revise the first and last sentences of renumbered 10.1.1 to read as follows:]

Special Handling is subject to the basic standards in 1.0; see 1.4 for eligible matter.* * * There are unique service codes included in the IMpb for the content categories (Fragile, Hazardous Material Transportation, Live Animal Transportation, Perishables, and Cremated Remains (only available with Priority Mail Express) of special handling.

10.1.2 Bees and Poultry

[Revise the text of renumbered 10.1.2 to read as follows:]

Unless sent Priority Mail Express, Priority Mail, First-Class Mail or First-Class Package Service, special handling-fragile is required for parcels containing honeybees or baby poultry.

10.1.3 Marking

[Revise the text of renumbered 10.1.3 to read as follows:]

Except for cremated remains (accordingly marked or with Label 139 affixed), the marking “Special Handling-Fragile” must appear prominently above the address and to the right of the return address on each piece for which the special handling service is requested and the applicable fee has been paid.

[Delete renumbered item 10.1.4, Parcel Select—Nonmachinable Parcels, in its entirety (the Parcel Select nonmachinable surcharge was eliminated in a prior price change).]

* * * * *

505 Return Services

1.0 Business Reply Mail (BRM)

1.1 Business Reply Mail (BRM) Prices and Fees

[Revise the title and text of 1.1.1 to read as follows:]

1.1.1 General BRM Charges

For BRM cards, letters and flats, an annual permit fee under 1.2 is required, and a per-piece fee under 1.1.8 is applied to each mailpiece, in addition to the applicable First-Class Mail or Priority Mail postage. See Notice 123—Price List, for applicable prices and fees.

[Revise the title and text of 1.1.2 (context of deleted text relocated to 1.1.1) to read as follows:]

1.1.2 High-Volume Basic BRM

An annual account maintenance fee is required for high-volume BRM.

[Revise the text of 1.1.3 (context of deleted text relocated to 1.1.1) to read as follows:]

1.1.3 Basic Qualified BRM (QBRM)

In addition to prices and fees under 1.1.1, an annual account maintenance fee is required for basic QBRM (which applies to a card meeting the applicable standards in 1.6 and 201.1 or a letter meeting the applicable standards in 1.6 that is not eligible for and claimed at the QBRM price for cards).

[Revise the text of 1.1.4 (context of deleted text relocated to 1.1.2) to read as follows:]

1.1.4 High-Volume Qualified BRM

In additional to 1.1.1, annual permit and account maintenance fees, and a quarterly fee, are required for high-volume QBRM.

[Revise the text of 1.1.5 (context of deleted text relocated to 1.1.1) to read as follows:]

1.1.5 Bulk Weight Averaged Nonletter-Size BRM

In addition to 1.1.1, permit holders participating in bulk weight averaged nonletter-size BRM under 1.8 must pay an annual account maintenance fee, and a monthly maintenance fee.

* * * * *

[Insert new 1.1.7 through 1.1.11 as follows (these relocated sections all have to do with prices and fees):]

1.1.7 Postage

Each piece of returned BRM is charged the applicable single-piece First-Class Mail or Priority Mail postage (423.1.0, and 133.1.0). Cards must meet the standards in 201.1.0 to qualify for card price postage. Any card larger than those dimensions is charged the applicable First-Class Mail letter price. For Priority Mail or First-Class Mail BRM pieces exceeding 13 ounces in weigh, if the zone cannot be determined from a return address or cancellation, then the permit holder is charged zone 4 postage based on the weight of the piece. For QBRM, see 1.6.3.

1.1.8 Per Piece Fees

Per piece fees listed in 1.1 are charged for each piece of returned BRM postcard, letter or flat (in addition to postage in 1.1.1). If a permit holder has not paid an annual account maintenance fee and established a BRM advance deposit account, then the basic (higher) BRM per piece fee must be paid. If a permit holder has paid the annual account maintenance fee and has established a BRM advance deposit account, then the high-volume (lower) BRM per piece fee is paid. For QBRM, see 1.6.4.

1.1.9 Advance Deposit Account and Annual Account Maintenance Fee

A permit holder may choose to pay an annual account maintenance fee and establish an advance deposit account, which qualifies returned BRM pieces for the high-volume per piece fee. The account maintenance fee must be paid once each 12-month period at each Post Office where a permit holder holds an advance deposit account. Payment of the account maintenance fee is based on the anniversary date of the initial payment. The fee may be paid in advance only for the next 12-month period and only during the last 60 days of the current 12-month period. The fee charged is that which is in effect on the date of payment. A separate advance deposit account solely for BRM is not required. An advance deposit account can be used for BRM under these conditions:

a. For each withdrawal, only one statement is provided for each annual account maintenance fee paid.

b. If a permit holder distributes BRM with different addresses (including Post Office box numbers) under the same permit number going to the same delivery unit and has only one business reply account, then the BRM is separated by each different address but only one statement is provided and only one annual account maintenance fee is paid.

c. The permit holder must pay an annual account maintenance fee for each separate statement (accounting) requested. If only one annual account maintenance fee is paid, then the permit holder receives only one statement.

d. The permit holder must maintain a sufficient balance in the BRM advance deposit account to cover postage and per piece fees for returned mailpieces. The permit holder is notified if funds are insufficient. After three calendar days, if no funds are deposited, then the BRM on hand is charged the basic BRM per piece fee and postage and charges are collected from the permit holder (e.g., in cash) prior to delivery.

e. BRM addressed to several different firms at the same delivery unit may be delivered to an agent authorized by a valid BRM permit holder. The agent pays one annual account maintenance fee for all the firms represented by the agent in the same delivery unit. If the agent, or any of the firms represented by the agent, wants a separation of charges, then separate (additional) account maintenance fees must be paid.

1.1.10 Renewal of Annual Account Maintenance Fee

An annual renewal notice is provided to each BRM permit holder with a BRM advance deposit account. The notice and the payment for the next 12 months must be returned by the expiration date to the Post Office that holds the advance deposit account. After the expiration date, if the permit holder has not paid the annual account maintenance fee but still has a valid BRM permit, returned BRM pieces no longer qualify for the high-volume BRM per piece fee and are charged the basic BRM per piece fee in 1.1.8.

1.1.11 Payment Options

Permit holders may pay for postage and per piece fees on returned pieces by cash or check upon delivery, through a regular postage due account (604.6.3), or through a BRM advance deposit account (1.1.9). A regular postage due account is not charged an annual account maintenance fee and does not qualify the permit holder for high-volume BRM per piece fees.

[Delete 1.2 Qualified Business Reply Mail (QBRM) Prices, and 1.3, Qualified Business Reply Mail (QBRM), in their entirety, (1.2 is already stated in 505.1.1 and 1.3 relocated to 1.10, Additional Standards for QBRM.), then, insert new 1.2, Permits, (relocated from current 1.5) to read as follows:]

1.2 Permits

* * * * *

1.2.2 Application Process

The mailer may apply for a BRM permit by submitting a completed Form 3615 to the Post Office issuing the permit and paying the annual permit fee. If a completed Form 3615 is already on file for the mailer for other permits at that office, then the mailer must submit the annual BRM permit fee and the USPS amends Form 3615 by adding the BRM authorization.

1.2.3 Annual Permit Fee

A permit fee must be paid once each 12-month period at each Post Office where a BRM permit is held. Payment of the permit fee is based on the anniversary date of the permit's issuance. The fee may be paid in advance only for the next 12 months and only during the last 60 days of the current service period. The fee charged is that which is in effect on the date of payment. Agents authorized by a permit holder under 1.7 are not required to pay an annual permit fee at the Post Office where their BRM is received.

1.2.4 Renewal of Annual Permit Fee

An annual renewal notice is provided to each BRM permit holder by the USPS. The notice and the payment for the next 12 months must be returned by the expiration date to the Post Office that issued the permit. After the expiration date, if the permit holder has not paid the annual permit fee, then returned BRM pieces are treated as follows:

a. Postcards of no obvious value are treated as waste and disposed of at the delivery unit.

b. Letter and flat pieces with a return address are endorsed “Business Reply Permit Canceled” and are returned to the sender.

c. Pieces without a return address are endorsed “Business Reply Permit Canceled” and forwarded to the mail recovery center for handling.

1.2.5 Other Post Offices

A permit holder may distribute BRM through any Post Office for delivery at any Post Office under 1.7.

1.2.6 Revocation of a Permit

The USPS may revoke a BRM permit because of format errors or for refusal to pay permit fees (annual, accounting, quarterly, or monthly), postage, or per piece fees. If the permit was revoked due to format errors, then a former permit holder may obtain a new permit and permit number by completing and submitting a new Form 3615, paying the required BRM annual permit fee, paying a new annual account maintenance fee (if applicable), and, for the next 2 years, submitting two samples of each BRM format to the appropriate Post Office for approval.

[Renumber current 1.4 through 1.12 as new 1.3 through 1.8.]

[Revise the title (to align with other titles in 505) of renumbered 1.3 as follows:]

1.3 Basic Standards

1.3.1 Description

[Revise the text of renumbered 1.3.1 to read as follows:]

Business Reply Mail (BRM) service enables a permit holder to receive First-Class Mail and Priority Mail back from customers. The permit holder guarantees payment of the applicable First-Class Mail or Priority Mail postage, plus a per piece fee, on all returned BRM which includes any incomplete, blank, or empty BRM cards and envelopes and any mailable matter with a BRM label affixed. BRM cards, envelopes, self-mailers, and flats may be distributed by a BRM permit holder in any quantity for return to any Post Office in the United States and its territories and possessions, including military Post Offices overseas. High-Volume BRM under 1.1.2 is a subset of BRM that qualify pieces for a reduced per piece fee. QBRM, under 1.1.3, 1.1.4 and 1.6, is a subset of BRM available for specific automation-compatible letter-size pieces that qualify for an automation postage price and a reduced per piece fee. Domestic BRM may not be distributed to foreign countries (see the International Mail Manual for International Business Reply Service (IBRS)). BRM may not be used for any purpose other than that intended by the permit holder, even when postage is affixed. In cases where a BRM card or letter is used improperly as a label, the USPS treats the item as waste.

[Delete renumbered 1.3.2, Payment Guarantee, in its entirety, (text relocated under 1.3.1, Description), then, renumber recently renumbered 1.3.3, Services, through 1.3.8, Error Notification, as new 1.3.2 through 1.3.7.]

[Revise the title and text of newly renumbered 1.3.2 as follows:]

1.3.2 Extra Services

No extra services are permitted with BRM, except for BRM parcels bearing an Intelligent Mail package barcode with imbedded USPS Tracking service.

[Delete renumbered 1.3.3, Address, in its entirety, (text relocated more appropriately under 1.8.6, Format Elements), then, renumber recently renumbered 1.3.4, through 1.3.7 as new 1.3.3 through 1.3.6.]

[Delete recently renumbered 1.3.4, Intentions of the Permit Holder, in its entirety, (text relocated in 1.3.1, Description) and renumber recently renumbered 1.3.5 through 1.3.6 as new 1.3.4 through 1.3.5.]

1.3.4 Samples

[Revise the text of newly renumbered 1.3.4 to read as follows:]

Prior to printing, permit holders are encouraged, but not required, to submit preproduction samples of BRM to the USPS for approval. QBRM pieces require USPS approval (1.6).

1.3.5 Error Notification

[Revise the text of newly renumbered 1.3.5 to read as follows:]

If the USPS discovers a BRM format error, the responsible permit holder or authorized agent receives written notification of the error. The permit holder must correct the error and make sure that all future BRM pieces meet appropriate specifications. The repeated distribution of BRM with format errors is grounds for revoking a BRM permit (1.2.6).

[Delete renumbered 1.4, Permits, in its entirety (relocated to new 1.2.]

[Delete renumbered 1.5, Postage, Per Piece Fees, and Account Maintenance Fees, and 1.5.1, Postage through 1.5.4, Renewal of Annual Account Maintenance Fee, (all text relocated within 1.1) in their entirety.]

[Renumber 1.5.5 through 1.5.7 as new 1.3.6 through 1.3.8.]

1.3.6 Combined Pieces as a Single Item

Two or more BRM pieces may be mailed as a single piece if the BRM pieces are identically addressed and prepared for mailing in accordance with 201.1.0. The permit holder is charged postage based on the total weight of the combined piece plus one per piece fee. If the combined pieces become separated, then the permit holder must pay postage and a per piece fee for each individual piece. Combined pieces are not eligible for QBRM postage prices or per piece fees.

1.3.7 With Postage Affixed

[Revise the text of renumbered 1.3.7 to read as follows:]

BRM with postage affixed is handled the same as other BRM. No effort is made to identify or separate BRM pieces with postage affixed. The amount of affixed postage is not deducted from the postage or per piece fees owed. The permit holder may request a credit or refund for postage affixed to BRM under 604.9.2.

[Delete newly renumbered 1.3.8 in its entirety (context of text relocated to 1.1.11 under BRM Prices and Fees).]

1.4 Mailpiece Characteristics

* * * * *

1.4.5 Window Envelopes

The following standards apply to BRM prepared in an open-panel or a covered window envelope:

* * * * *

c. Open panel window envelopes:

* * * * *

[Revise the text of renumbered 1.4.5c.2 to read as follows:]

2. Other required and optional elements in 1.5 may be printed on the insert appearing through the address window.

1.4.6 Self-Mailers and Reusable Mailpieces

[Revise the first sentence of renumbered 1.4.6 to read as follows:]

In addition to the standards in 1.4 and 1.5, self-mailers and reusable mailpieces must meet the standards in 201.3.14 and 601.6.5 (or 601.6.6). * * *

* * * * *

[Revise the title and text of renumbered 1.4.8 to read as follows:]

1.4.8 Labels for Letter-Size Pieces

The minimum size of a BRM label for use on letter-size pieces is 2 inches high and 3 inches long. BRM labels on ordinary letter-size pieces are not required to have a FIM or a ZIP+4 barcode, but all other format standards in 1.5 must be met. In cases where a BRM card or letter is used improperly as a label, the USPS treats the item as waste. The following standards apply to BRM labels for use on letter-size pieces:

a. The minimum size of a BRM label is 2⅝ inches high and 4¼ inches long. All format elements, including a FIM, must be printed on the label. Exception: The vertical series of horizontal bars must be at least ¾ inch high. Horizontal bars may be omitted on BRM letter-size pieces bearing Intelligent Mail barcodes. The back of the label must be coated with a permanent adhesive strong enough to firmly attach the label to an envelope.

b. The permit holder must provide instructions to the user describing how the label should be applied to a mailpiece and what precautions must be observed when applying the label (see Exhibit 1.4.8a). A pictorial diagram showing proper placement of the label must be included with the instructions. At a minimum, the instructions must include the following directions:

1. Place the label squarely in the upper right corner of the envelope.

2. Do not write on the envelope or label.

3. Do not use a window envelope, an envelope that is less than 1 inch higher than the label an envelope that is more than 4½ inches high, or an envelope with any printing other than a return address.

4. Do not use tape to affix the label.

c. When the label is affixed to an envelope, the address must be placed within the OCR read area (see 202.2.1).

d. Pieces with business reply labels cannot qualify for QBRM prices.

Exhibit 1.4.8a Instructions for Affixing Business Reply Label

* * * * *

[Delete 1.4.9, Labels for Letter-Size Pieces, in its entirety (context of text relocated to 1.4.8).]

1.5 Format Elements

1.5.1 General

[Revise the text of renumbered 1.5.1 to read as follows:]

Except for BRM parcels under 3.0, all pieces of BRM are subject to these format elements. The USPS may revoke a BRM permit because of format errors under 1.2.6. An Intelligent Mail barcode (IMb) is not required, except for QBRM prices; if an IMb is used, it must be printed and placed under 1.5.10 and as shown in Exhibit 1.5.1a. Pieces of QBRM and bulk weight averaged nonletter-size BRM are subject to additional format standards listed in 1.6 and 1.8. BRM format elements are shown in Exhibit 1.5.1a.

Exhibit 1.5.1a Business Reply Mail Format

* * * * *

1.5.2 Printing and Print Reflectance

[Revise the second sentence of renumbered 1.5.2 to read as follows:]

* * * Handwriting, typewriting, and hand stamping may not be used to prepare BRM. Printed borders are not permitted on letter-size BRM, but are permitted on envelopes greater than 6⅛ inches high or 11½ inches long or ¼ inch thick. * * *

* * * * *

1.5.4 Business Reply Legend

[Revise the first sentence of 1.5.4 to read as follows:]

The legend “BUSINESS REPLY MAIL” or “BUSINESS REPLY LABEL”, as appropriate, must appear on all pieces. * * *

* * * * *

1.5.6 Delivery Address

[Add a new first sentence to and revise item d of renumbered 1.5.6 to read as follows:]

The delivery address on a piece of BRM may not be altered to redirect the mailpiece to any address other than the one preprinted on the piece. * * *

* * * * *

[Renumber current 1.9 as new 1.5.10, then, revise the title and text of renumbered 1.5.10 to read as follows:]

1.5.10 Additional Standards for Letter-Size and Flat-Size BRM Bearing an IMb

When an Intelligent Mail barcode is printed on any BRM pieces, it must contain the barcode ID, service type ID, and correct ZIP+4 routing code, as specified under 708.4.3. The IMb must be placed on the address side of the piece and positioned as part of the delivery address block under 202.5.7 or within the barcode clear zone in the lower right corner of the piece if printed directly on the piece.

1.6 Additional Standards for Qualified Business Reply Mail (QBRM)

1.6.1 Description

[Revise renumbered 1.6.1 to read as follows:]

Qualified business reply mail (QBRM) is a subset of business reply mail. Permit holders distribute automation-compatible letter-size pieces that qualify for automation postage prices and reduced per piece fees. In addition to meeting the eligibility requirements below, the authorization to participate in QBRM under 1.6.2, and the format standards in 1.5, QBRM is First-Class Mail that:

a. Is letter-size and is prepared to meet the automation compatibility requirements in 201.3.0 (except 201.3.13.1).

b. Meets all the Business Reply Mail (BRM) standards in 1.3 through 1.8.

c. Has postage and per piece charges deducted from a BRM advance deposit account.

d. Is authorized to mail at QBRM prices and fees under 1.6.2. During the authorization process, a proper ZIP+4 Code is assigned to the mailer (under 1.6.2) for each price category of QBRM to be returned under the system (one for card priced pieces, one for letter-size pieces weighing 1 ounce or less, and one for letter-size pieces weighing over 1 ounce up to and including 2 ounces).

e. Bears the proper ZIP+4 Code, assigned by USPS for the appropriate price category, in the address of each piece. The ZIP+4 Codes assigned for this program must be used only on the organization's appropriate QBRM pieces.

f. Bears the correct Intelligent Mail barcode, correctly prepared under 1.9 and 708.4.0, that corresponds to the unique ZIP+4 code in the address on each piece distributed.

g. Bears a properly prepared facing identification mark (FIM) C on each piece distributed (see 708.9.0).

[Delete renumbered 1.6.2, Eligibility, in its entirety (text in “1.3” as reference in 1.10.2 relocated to 1.10.1 (1.10.1 subsequently renumbered as new 1.6.1)), then, renumber recently renumbered 1.6.3 through 1.6.8 as new 1.6.2 through 1.6.7.]

1.6.2 Authorization

[Revise the text of renumbered 1.6.2 to read as follows:]

To participate in QBRM, a mailer with a valid BRM permit and having paid the annual account maintenance fee, must submit Form 6805 to the Postmaster or manager, Business Mail Entry for the Post Office to which the QBRM pieces are to be returned. USPS assigns to the mailer a proper BRM ZIP+4 Code, as applicable, reviews Form 6805 and preproduction samples provided by the mailer for compliance with relevant standards, and if approved, issues the mailer an authorization via the Form 6805.

* * * * *

1.6.4 Per Piece Fees

[Revise the text of renumbered 1.6.4 to read as follows:]

Per piece fees are charged for each piece of returned QBRM (in addition to postage in 1.6.3). Pieces that do not meet the format requirements for QBRM cannot qualify for QBRM per piece fees and are charged the high-volume BRM per piece fees in 1.1.2.

1.6.5 Annual Account Maintenance Fee and Advance Deposit Account

[Revise the text of renumbered 1.6.5 to read as follows:]

Permit holders are required to pay QBRM postage and per piece fees through a BRM advance deposit account, which requires payment of an annual account maintenance fee (see 1.1.9).

* * * * *

[Revise the complete text of renumbered 1.7 to read as follows (incorporating the text and sections 1.11.2 through 1.11.6 as new 1.7.1 items a through e.):]

1.7 BRM Distributed and Received by Agents of a Permit Holder

1.7.1 Description

Permit holders may give permission to subsidiary offices, agents, or authorized representatives to distribute and receive BRM using a single (corporate) permit number. BRM pieces are distributed by and returned to agents, who pay postage and per piece fees on those returned pieces. Agents may use any type of BRM service meeting the applicable standards in 1.0 and under the following additional conditions:

a. Permit—The main permit holder or “corporate” office applies for the permit number and pays the permit fee. The agent must present a letter of authorization from the permit holder showing the name, address, and telephone number of the local agent authorized to receive the BRM to the Post Office where the BRM is to be returned. Any time there is a change to the original permit application or the authorization letter, each agent must provide an amended letter of authorization to their local Post Office.

b. Annual Permit Fee—Agents do not pay a separate annual permit fee but must submit evidence (usually a copy of Form 3544) to the local office once each 12-month period to show that the annual permit fee has been paid. This evidence is not required if-the permit holder has a centralized account processing system (CAPS) account, through which the local Post Office can determine that the permit fee has been paid.

c. Postage, Per Piece Fees, and Annual Account Maintenance Fees—Agents receiving BRM or QBRM are responsible for paying all the postage and per piece fees, and applicable annual account maintenance fees, under 1.1 for the type of service received.

d. Payment Guarantee—The permit holder is ultimately responsible for postage and per piece fees for all pieces returned under that permit number. If a local agent refuses or neglects to pay postage or per piece fees on returned pieces, then those pieces are forwarded to the Post Office that issued the original permit for collection of postage and per piece fees from the permit holder. Once forwarded to the permit holder, these pieces cannot qualify for QBRM postage and per piece fees. The permit holder's refusal to accept and pay the required postage and per piece fees for BRM offered for delivery is grounds for immediate revocation of the BRM permit (1.5.6).

e. Format—BRM distributed by agents must meet all required format standards in 1.4 and 1.5. Authorized representatives distributing BRM on behalf of a permit holder must have the permit holder's name and permit number printed on the BRM and their own names and addresses printed below the permit holder's name, except:

1. When the agent is a branch of an authorized business.

2. The permit holder notifies a Post Office that authorized representatives may use the permit holder's permit number without printing the permit holder's name.

1.8 Bulk Weight Averaged Nonletter-size BRM

* * * * *

1.8.3 Postage, Per Piece Fees, and Other Fees

[Revise the last sentence of renumbered 1.8.3 to read as follows:]

* * * Permit holders participating in bulk weight averaged nonletter-size BRM must pay an annual account maintenance fee and a monthly maintenance fee (see 1.1.5).

[Revise the title of 1.8.4, Application Procedures, to read as follows:]

1.8.4 Application Process

[Revise the introductory text of renumbered 1.8.4 to read as follows:]

A permit holder who wants to use bulk weight averaged BRM for nonletter-size pieces must submit a written request to the Postmaster of the office where the BRM permit is held. The Postmaster forwards this information to the manager, Customer Service Standardization, USPS Headquarters (see 608.8.0 for address). The request must include the following information:

* * * * *

[Revise the text of 1.8.4d read as follows:]

d. Based on the estimated volume in 1.8.4c, a 24-hour estimate and a 30-day estimate of postage and per piece fees using the postage and charges listed in 1.1.5.

* * * * *

1.8.7 Revoking Authorization

[Revise the introductory text of renumbered 1.8.7 to read as follows:]

A Postmaster may terminate authorization for bulk weight averaged BRM by sending written notice to the permit holder, for any of the following reasons:

* * * * *

[Revise the heading of 2.0, Permit Reply Mail, to read as follows:]

2.0 Permit, Pre-Paid (Metered), and Courtesy Reply Mail

[Revise the title of 2.1, General Information, to read as follows;]

2.1 Permit Reply Mail

2.1.1 Description

[Revise the second sentence of 2.1.1 to read as follows:]

* * * Mailers must distribute PRM pieces as part of the contents of an outgoing First-Class Mail mailing (see 230) only by using a valid permit imprint (604.5.0) account.

[Revise the title of 2.1.2, Services, as follows;]

2.1.2 Extra Services

* * * * *

[Delete 2.1.3, Address, in its entirety (text relocated to 2.3.6), then renumber current 2.1.4 through 2.1.5 as new 2.1.3 through 2.1.4.]

* * * * *

2.3.6 Delivery Address

[Revise the text of 2.3.6 to read as follows:]

The complete address (including the permit holder's name, delivery address, city, state, and ZIP+4 Code) must be printed on the piece. The delivery address on a PRM mailpiece may not be altered to redirect it to any address other than the one preprinted on the piece. PRM pieces must bear an Intelligent Mail barcode meeting the standards in 202.5.0 and 708.4.0.

* * * * *

2.3.8 Company Logo

[Revise the text of 2.3.8 to read as follows:]

A company logo is permitted on letter-size PRM, provided the logo is placed no lower than 5/8 inch from the bottom edge of the piece and it does not interfere with any required format element.

[Delete 2.4, Permit Imprint Account, in its entirety (relocated the last sentence to 2.1.1, Description, and the rest of this text is already stated in 2.1.1), then, renumber current 2.5 and 2.6 as new 2.4 and 2.5.]

* * * * *

[Renumber recently renumbered 2.5, Courtesy Reply Mail, as new 2.7.]

[Insert new section 2.6 (relocated more appropriately here from 604.4.5.2) to read as follows:]

2.6 Prepaid (Metered) Reply Mail

2.6.1 Description

Mailers may use indicia generated by any postage evidencing system (see 604.4) to prepay reply postage on Priority Mail Express, on Priority Mail when the price is the same for all zones, on First-Class Mail, and on single-piece price Media Mail and Library Mail under the following conditions.

a. The postage amount must be sufficient to prepay the full postage due.

b. Print indicia directly on the mailpiece or on a label, and place indicia under 201.4.3.3.

c. Indicia used to prepay reply postage must not show the date.

d. Pre-address the mailpiece for return to the authorized user only.

e. Print the words “NO POSTAGE STAMP NECESSARY POSTAGE HAS BEEN PREPAID BY” directly above the address.

f. Mailers may use FIM A on barcoded letter-size First-Class Mail reply mail except when using PC Postage.

g. When using PC Postage, mailers must use FIM D for prepaid reply mail when the indicium is printed directly on the mailpiece.

h. The address side must appear as described in this section and shown in the illustration below. Nothing may be added except a return address, FIM, or barcode.

* * * * *

[Insert new 2.8 (context of text relocated from 201.3.18) to read as follows:]

2.8 Enclosed Reply Cards and Envelopes

Mailers may enclose reply cards or envelopes (i.e. BRM under 1.0; Permit Reply Mail under 2.1 and 2.4, Prepaid (Metered) Reply under 2.6, or Courtesy Reply Mail under 2.7), addressed for return to a domestic delivery address, within automation mailings subject to provisions in 201.3.0 for enclosures.

[Revise the title of 3.0 to read as follows:]

3.0 Merchandise Return Service (MRS)

3.1 Prices and Fees

3.1.1 Permit Fee

[Revise the text of 3.1.1 to read as follows:]

An annual Returns Services permit fee must be paid once each 12-month period at each Post Office where a Merchandise Return Service (MRS) permit is held. The fee (in effect on the date of the payment) may be paid for the next 12 months, during the last 60 days of the service period, before the anniversary of the permit's issuance. An approved merchandise return permit on Form 3615 must be on file at every Post Office to which parcels are returned.

3.1.2 Advance Deposit Account and Account Maintenance Fee

[Revise the entire text of 3.1.2 (including relocated text from 3.2.9, Multiple Accounts) to read as follows:]

There is an annual Returns Services account maintenance fee for the advance deposit account. The permit holder must pay postage and extra service fees through an advance deposit account and must pay an annual account maintenance fee. When an advance deposit account is kept at each entry location, a separate permit (except as provided under 3.2.11 and for qualified national permit holders using scan based payment for returns) is needed and the annual merchandise return service permit and annual account maintenance fees must be paid at each Post Office. The fee (in effect on the date of the payment) may be paid for the next 12 months, during the last 60 days of the service period, before the anniversary date of the initial fee payment. A separate advance deposit account for MRS is not required; the annual account maintenance fee is charged if MRS postage and fees are paid from an existing account:

a. For each withdrawal, only one statement is provided for each annual account maintenance fee paid.

b. The permit holder must pay an annual account maintenance fee for each separate statement (accounting) requested.

* * * * *

3.1.3 Postage

Merchandise return service parcels are charged single-piece price postage and extra service fees based on the class or subclass marking on the label. If a parcel is unmarked or marked Media Mail, Library Mail, or Bound Printed Matter, then it is charged Parcel Select Nonpresort prices. If the postage for the returned parcel is zoned and there is no way to determine its zone of origin (i.e., no postmark or return address), then postage is calculated at zone 4 (for Priority Mail, or for pieces marked “Ground” and charged at Parcel Select Nonpresort prices). Postage is deducted from an advance deposit account.

* * * * *

3.1.5 Priority Mail Commercial Base and Commercial Plus Prices

Priority Mail Commercial Base and Commercial Plus prices are available to MRS permit holders when the following criteria are met:

[Revise the text of 3.1.5 item a by deleting the second sentence.]

* * * * *

3.2 Basic Standards

3.2.1 Description

[Revise the text of 3.2.1 to read as follows:]

Merchandise return service allows an authorized Returns Services permit holder to pay the postage and extra service fees on single-piece priced Priority Mail, or First-Class Package Service or ground return service parcels (Parcel Select Nonpresort) that are returned to the permit holder by the permit holder's customers via a special barcoded label (see 3.5.10) produced by the permit holder.

* * * * *

[Delete 3.2.5, IMpb Standards, in its entirety, (context of text in new item j. under 3.5.10, Label Format Elements) then, renumber current 3.2.6 through 3.2.14 as new 3.2.5 through 3.2.13.]

* * * * *

3.2.6 Application Process

[Revise the text of 3.2.6 to read as follows:]

The applicant must submit a completed Form 3615 and the annual permit fee to the Post Office issuing the permit, or amend an existing Form 3615 on file at that office by adding the merchandise return service authorization to existing Returns Service permit authorizations. Except for MRS labels generated by the USPS Application Program Interface (API), Form 3615 must be accompanied by copies of the MRS labels (including printed copies of labels intended to be faxed to customers or transmitted to customers electronically) and the instructions provided to the permit holder's customers. All MRS labels that have preprinted USPS Tracking barcodes must be approved by the USPS. If articles are to be returned from customers as Registered Mail, the applicant must indicate “Registered Mail” on the application. After a MRS permit is obtained, any change to label formats or customer instructions must be approved by the Post Office where the permit is held. The permit is valid for 12 months after the approval date of the application.

[Delete renumbered 3.2.7, Procedure, (text relocated in 3.1.1), 3.2.8, Multiple Accounts, (text relocated in 3.1.2) in their entirety, then renumber recently renumbered 3.2.9 through 3.2.13 as new 3.2.7 through 3.2.11.]

[Revise the title and text of newly renumbered 3.2.7, Renewal, to read as follows:]

3.2.7 Permit Renewal

To renew the MRS permit, the permit holder must send the annual fees (under 3.1.1 and 3.1.2) to the issuing Post Office by the expiration date of the permit, or authorize the Postmaster to deduct the fee from the advance deposit account, or establish a CAPS link for EFT. If a permit holder's outbound permit account shows any amount of outbound parcel volumes, the annual Returns Services permit and account maintenance fees may be waived at the time of renewal. Written authorization is not needed for permit renewal if there is no change to the authorization on file at the delivery unit.

3.2.8 Nonrenewed Permit

[Revise the text of 3.2.8 to read as follows:]

If the permit is not renewed, merchandise return mail bearing the sender's return address is returned to the sender; otherwise, it is treated as dead mail.

3.2.9 Permit Cancellation

[Revise the text of 3.2.9 to read as follows:]

The USPS may cancel a MRS permit if the permit holder refuses to accept and pay postage and fees on merchandise return service parcels, fails to keep sufficient funds in the advance deposit account to cover postage and fees, or distributes merchandise return labels or tags that do not meet USPS standards.

3.2.10 Reapplying After Cancellation

[Revise the text of 3.2.10 to read as follows:]

To receive a new MRS permit at the same Post Office after a merchandise return permit is canceled, the applicant must amend the Form 3615 on file at that office to reflect the new application date; pay a new permit fee; submit for approval two samples of any label format to be used; provide evidence that the reasons for the permit cancellation are corrected; and provide and keep funds in an advance deposit account to cover normal returns for at least 2 weeks.

3.2.11 Using Other Post Offices

[Revise the text of 3.2.11 to read as follows:]

The permit holder may distribute merchandise return labels for return through other Post Offices (i.e. stations or branches under a Main Post Office) without paying an additional permit fee if the permit holder opens and keeps their advance deposit account at the Post Office where the permit is issued and supplies that Postmaster the name, address, and telephone number of a representative in each additional station or branch if different from the information on the application.

[Revise the title of 3.3, Additional Standards for Permit Holder, to read as follows:]

3.3 Additional Standards for MRS

[Revise the title and text of 3.3.1 to read as follows:]

3.3.1 Extra and Additional Services

The MRS permit holder may obtain extra and additional services with MRS as follows:

a. Insurance—Which may be combined with special handling) for MRS containing only matter not required to be mailed at First-Class Mail prices under 133.3.0. To request insurance, the permit holder must preprint or rubber-stamp “Insurance Desired by Permit Holder for $__ (value)” to the left of and above the “Merchandise Return Label” legend and below the “Total Postage and Fees Due” statement on the merchandise return label. The value part of the endorsement, showing the dollar amount of insurance for the article, may be handwritten by the permit holder. If insurance is paid for by the MRS permit holder, then only the MRS permit holder may file a claim (609).

b. Registered Mail—May be obtained by the MRS permit holder under the following conditions:

1. The customer using the MRS label must declare the full value of the article to be registered when presented at the Post Office. Registered Mail service may be obtained only on articles returned at Priority Mail or First-Class Package Service prices and may not be combined with any other extra service.

2. A permit holder wanting to add Registered Mail service under an existing permit must submit a written request to the Post Office where the permit is held, with samples of the merchandise return labels and a copy of the instructions to be provided to the permit holder's customers. The permit holder must not distribute labels that request Registered Mail service before receiving USPS written approval.

c. Special Handling—The permit holder may obtain special handling service with MRS.

d. Pickup on Demand Service—The permit holder may obtain Pickup on Demand service with MRS. Pickup on Demand service may be combined with Certified Mail (Priority Mail only), USPS Tracking, and special handling.

e. USPS Tracking—(which may be combined with insurance and special handling or both) is included with MRS when the MRS labels are properly formatted under 3.5.10.

f. Mailing Acknowledgment—The permit holder may prepare a detachable mailing acknowledgment form, subject to these conditions:

1. The acknowledgment must not bear adhesive but must be attached to the label and perforated or designed for easy separation at the time of mailing.

2. The acknowledgment establishes no USPS liability for the parcel if damaged, lost, or stolen.

3. The acknowledgment provides documentation for account management between the mailing customer and the permit holder. The USPS charges no fee, keeps no records, and does not provide copies of or further information about the acknowledgment.

4. A merchandise return service parcel containing the detachable mailing acknowledgment form must be presented to the USPS acceptance employee at the time of mailing to be executed.

5. Each mailing acknowledgment part of the label must include a unique parcel identification number assigned by the permit holder; the return address of the customer mailing the parcel, in the upper part of the detachable form; the permit holder's address, in the lower part of the form; an initials section in the acknowledgment portion for use by the USPS acceptance employee; and space in the acknowledgment part where the USPS acceptance employee places the date stamp.

[Delete 3.3.2, Registered Mail, through 3.3.7, Mailing Acknowledgment, in their entirety (context of text relocated to 3.3.1).]

3.4 Additional Standards for Permit Holder's Customer

3.4.1 Customer Options

[Revise the text of 3.4.1 to read as follows:]

If the permit holder has not indicated the extra services listed in 3.3.1a through 3.3.1d a customer may request the extra services listed in 3.3.1a through 3.3.1d at their own expense.

3.4.2 Insurance

[Revise the text of 3.4.2 to read as follows:]

If insurance is paid by the customer, then only the customer may file a claim.

3.4.3 Certificate of Mailing

* * * * *

[Revise the title of 3.5, Preparation, to read as follows:]

3.5 Labels

3.5.1 Distribution of Labels

[Revise the text of 3.5.1 to read as follows:]

Merchandise return service labels may be distributed to customers as an enclosure with merchandise, as a separate item (including when requested electronically through the Business Customer Gateway for printing and delivery to the end-user by USPS), as part of a double postcard subject to 201.1.2.8 and the approval of the PCSC, as an electronic transmission for customer downloading and printing, or through one of the permit holder's designated pickup facilities. Any such label distributed to a customer must meet the format standards in 3.5.10, including the requirement to furnish instructions.

[Delete 3.5.2, Labels, in its entirety (text relocated to introductory text of renumbered 3.5.10, Label Format Elements); then, renumber 3.5.3 through 3.5.14 as new 3.5.2 through 3.5.13.]

[Revise the title and text of renumbered 3.5.2 to read as follows:]

3.5.2 Mailer Price Markings

It is recommended that permit holders preprint a price marking (or “Ground” for ground service charged at Parcel Select Nonpresort prices) on the merchandise return service labels they distribute to ensure that returned parcels will be given service and charged postage according to the wishes of the permit holder. Regardless of weight, all unmarked parcels will be treated as Standard Post and charged Parcel Select Nonpresort prices.

[Revise the title and text of renumbered 3.5.3 to read as follows:]

3.5.3 Label Preparation

Any photographic, mechanical, or electronic process or any combination of such processes other than typewriting or handwriting may be used to prepare the MRS label and detachable acknowledgment form. The background may be any light color (excluding brilliant colors) that allows the address, postmark, and other endorsements to be readily discerned. If labels are faxed to customers or electronically transmitted to customers for their local printing, the permit holder must advise their customers of these preparation requirements as part of the required instructions required under 3.5.5. All MRS labels bearing the required IMpb (with imbedded USPS Tracking) must be certified for use by the USPS prior to distribution. Labels with USPS Tracking barcodes cannot be faxed to customers.

[Revise the title and text of renumbered 3.5.4 to read as follows:]

3.5.4 Labeling Methods

If all applicable content and format standards are met (including the written instructions required by 3.5.5), a merchandise return service label may be produced by any of the following methods:

* * * * *

[Revise the text of renumbered 3.5.4 item c to read as follows:]

c. Printed and delivered by USPS to the customer (end-user) when requested electronically by the permit holder or its agents through the Business Customer Gateway.

* * * * *

[Revise the title of renumbered 3.5.5 to read as follows:]

3.5.5 Labeling Instructions

Written instructions must be provided with the label that, at a minimum, directs the customer to do the following:

* * * * *

[Revise renumbered 3.5.5 item d by changing any blue colored text to black.]

d. “Mail the labeled parcel at a Post Office, drop it in a collection box, leave it with your letter carrier, or schedule a package pickup at usps.com.”

[Delete renumbered 3.5.6, Insured Markings, in its entirety (context of text relocated more appropriately under 3.5.8); then, insert new 3.5.6 to read as follows:]

3.5.6 Special Handling Endorsement

To request special handling, the permit holder must preprint or rubber-stamp “Special Handling Desired by Permit Holder” to the left of and above the “Merchandise Return Label” legend and below the “Total Postage and Fees Due” statement on the merchandise return label.

* * * * *

[Revise the title and text of renumbered 3.5.8 to read as follows:]

3.5.8 Placement of Extra Service Labels

The permit holder must either leave a clear space on the merchandise return label to the right of the return address for the placement of the applicable extra service label (see 503.1.7.2 for additional standards for extra service labels) or instruct the customer to affix the merchandise return label to the article so that the USPS acceptance employee can place the extra service label on the article directly above the merchandise return label.

[Delete renumbered 3.5.9, Placement of Return Receipt for Merchandise Label, (context of text relocated more appropriately under 3.5.8) and 3.5.10, Special Handling Endorsement, (context of text relocated to 3.5.6) in their entirety; then, renumber newly renumbered 3.5.11 through 3.5.13 as new 3.5.9 through 3.5.11.]

[Revise the title and text of renumbered 3.5.9 to read as follows:]

3.5.9 Additional Standards for Special Handling Labels

In addition to meeting the standards under 3.5.6 and 3.5.8, as applicable, the permit holder must provide “Special Handling” labels with instructions to customers about their placement on the parcel.

[Revise the title, complete text, and exhibits, of newly renumbered 3.5.10 to read as follows:]

3.5.10 Label Format Elements

The label used for merchandise return service must meet the standards in the Parcel Labeling Guide available on RIBBS.

[Delete renumbered 3.5.11, Certificate of Mailing, in its entirety (already stated in 505.3.4.3).]

3.6 Enter and Deposit

3.6.1 Customer Mailing Options

[Revise the last section of the first sentence of 3.6.1 to read as follows:]

* * *; or at any place designated by the Postmaster for the receipt of mail. * * *

[Insert new 3.7 to read as follows:]

3.7 Additional Standards for USPS Return Services

3.7.1 Permit and Account Fees

An annual Returns Services permit fee, under 3.1.1, and annual account maintenance under 3.1.2, are required for the USPS Return Services described in 3.7.

3.7.2 Extra Services

USPS insurance is the only extra service that can be purchased for USPS Returns (Priority Mail Return Service, First-Class Package Return Service and Ground Return Service). There is no included insurance provided for Priority Mail Return Service pieces.

3.7.3 Prices

Commercial Base prices are available for permit holders receiving Priority Mail Return Service and First-Class Package Return Service mailpieces under 3.7.

Permit holders may combine cumulative volumes for Priority Mail Return Service and First-Class Package Return Service. Eligibility for Commercial Plus prices are available to permit holders who qualify for Commercial Base prices, and at least one of the following:

a. Have cumulative Priority Mail Return Service, First-Class Package Return Service, and Ground Return Service volume exceeding a combined total of 25,000 return pieces in the previous calendar year.

b. Have cumulative returns Commercial Plus cubic (see 1.1.4) volume exceeding a combined total of 85,000 pieces returned in approved packaging in the previous calendar year.

c. Have cumulative returns and outbound volume exceeding a combined total of 90,000 pieces in the previous calendar year.

d. Have a signed Commercial Plus returns customer commitment agreement with USPS.

e. Have a signed commercial plus Critical Mail commitment agreement with USPS.

3.7.4 Postage

Postage is calculated based on the weight of the parcel and zone, except for First-Class Package Return Service, for which postage is based on the weight of the parcel and Critical Mail returns, for which postage is based on flat rate pricing. Customers must pay postage under a scan based payment program (705.24.0) and using an eVS/CAPS account.

3.7.5 Description

Priority Mail Return Service (including Critical Mail), First-Class Package Return Service and Ground Return Service provide return service options to customers who meet the applicable standards in 3.0. Except for restricted material described in Publication 52, any mailable matter may be mailed using any of the USPS Return Service options. Any content that constitutes First-Class Mail matter may only be mailed using Priority Mail Return Service or using First-Class Package Return Service at Commercial Plus prices.

3.7.6 Labels

USPS Return Service labels must meet the standards in the Parcel Labeling Guide available on RIBBS. USPS Return Services standard label sizes are 3 inches by 6 inches, 4 inches by 4 inches, or 4 inches by 6 inches and must be certified by the USPS for use prior to distribution. All other label sizes require written approval from the National Customer Support Center (NCSC). The label must include an Intelligent Mail package barcode, accommodate all required elements, be legible, and be prepared in accordance with 708.5.0 and Publication 205 at https://ribbs/evs/documents/tech_guides/pubs/Pub205.PDF. Permit holders or their agents may distribute approved USPS Return Service labels and instructions by means listed under 3.5.4. Permit holders or their agents must provide written instructions to the label end-user (mailer) as provided under 3.5.5. The label used for USPS Returns must meet the standards in the Parcel Labeling Guide available on RIBBS.

3.7.7 Additional Standards for Priority Mail Return Service

Priority Mail Return Service may contain any mailable matter weighing no more than 70 pounds. Lower weight limits apply to Commercial Plus cubic (see 1.1.4), APO/FPO mail is subject to 703.2.0 and 703.4.0, and Department of State mail is subject to 703.3.0. Priority Mail Return Service receives expeditious handling and transportation, with service standards in accordance with Priority Mail. Priority Mail Return Service items mailed under a specific customer agreement is charged postage according to the individual agreement. Otherwise Priority Mail Return Service eligibility is under 3.7.3. Commercial Base and Commercial Plus prices are the same as for outbound Priority Mail in Notice 123—Price List.

3.7.8 Additional Standards for First-Class Package Return Service

First-Class Package Return Service handling, transportation, and eligibility of contents is the same as for outbound First-Class Package Service parcels under 433. Parcels weighing more than 13 ounces but less than 16 ounces may be included in the eligibility calculation for Commercial Plus prices and parcels weighing 13 ounces or less are eligible for Commercial Base prices.

3.7.9 Additional Standards for Ground Return Service

Ground Return Service provides ground transportation for mailpieces containing mailable matter weighing no more than 70 pounds and meeting the content standards in 153.3.0. Ground Return Service assumes the handing and transportation and service objectives for delivery of Standard Post.

[Delete current 4.0, USPS Returns, in its entirety; then, renumber current 5.0, Parcel Return Service, as new 4.0.]

4.0 Parcel Return Service

[Deleted renumber 4.1, Basic Information, in its entirety, (text relocated to new 4.3).]

[Renumber and retitle the 4.2 heading to read as follows:]

4.1 Prices and Fees

[Deleted 4.2.1, Postage, in its entirety (text relocated to new 4.1.3).]

[Renumber and retitle 4.2.2 as follows:]

4.1.1 Permit and Account Fees

[Revise renumbered 4.1.1 to read as follows:]

The participant must pay an annual Returns Services permit fee at the Post Office where the permit is held, and must pay postage through an advance deposit account by paying an annual account maintenance fee. See Notice 123—Price List for applicable fees.

[Delete renumbered 4.2.2, Advance Deposit Account and Annual Account Maintenance Fee, in its entirety, (context of text relocated to renumber 4.1.2).]

[Delete the renumbered heading 4.3, Prices.]

[Renumber 4.3.1, Parcel Return Service Prices, as 4.1.2; then, delete 4.3.2 through 4.3.3 (text relocated to new 4.1.2); then revise the entire text to read as follows:]

4.1.2 Parcel Return Service Prices

Parcel Return Service prices are based on the price that applies to the weight increment of each addressed piece, and on the designated return facility, RDU, RSCF, or RNDC. The price is charged per pound or fraction thereof; any fraction of a pound is considered a whole pound. For example, if an item weighs 4.225 pounds, the weight increment is 5 pounds. The minimum price per piece is the 1-pound price and these additional standards apply:

a. Parcel Return Service—Nonmachinable Prices: Parcels exceeding the maximum machinable dimensions in 401.1.5 or are considered an outside parcel under 401.1.7 are subject to nonmachinable prices.

b. Balloon and Oversized Prices: RSCF and RNDC parcels that weigh less than 20 pounds but measure more than 84 inches in combined length and girth are charged the applicable price for a 20-pound parcel (balloon price). Regardless of weight, any parcel that measures more than 108 inches (but not more than 130 inches) in combined length and girth must pay the oversized price.

c. Standard Post Prices: PRS-labeled parcels shipped from origin ZIP Codes 006-009, 967-969, and 995-999 that are picked up at an RNDC are subject to retail Standard Post prices.

[Insert new 4.1.3 as follows:]

4.1.3 Postage

There are three PRS price categories:

a. Parcel Return Service—RDU. Parcels returned as Standard Post to, and retrieved in bulk from, a designated delivery unit.

b. Parcel Return Service—RSCF. Parcels returned as Standard Post to, and retrieved in bulk from, a designated SCF.

c. Parcel Return Service—RNDC. Parcels returned as Standard Post to, and retrieved in bulk from, a designated NDC.

[Renumber current 4.3.5, Noncompliant Labels, as new 4.2.11.]

[Insert new 4.2 to read as follows:]

4.2 Basic Standards

4.2.1 Description

Parcel Return Service (PRS) applies to parcels that are picked up in bulk by authorized permit holders or their agents. Permit holders guarantee payment of postage for all parcels mailed with a PRS label. By providing an approved PRS label to its customers, the merchant or other party designates the permit holder identified on the label as their agent for receipt of mail bearing that label, and authorizes the USPS to provide that mail to the permit holder or its designee. The permit holder must retrieve parcels at each of the return network distribution centers (RNDC). For this purpose, an RNDC is each NDC as noted in L601. PRS permit holders also may retrieve parcels at one or more designated return sectional center facilities (RSCFs) or designated return delivery units (RDUs). Payment for parcels returned under PRS is deducted from a separate advance deposit (postage-due) account funded through the Centralized Account Processing System (CAPS). The permit holder must be authorized to use eVS (see 705.2.9).

4.2.2 Conditions for Mailing

Parcels may be mailed as PRS when all of the following conditions apply:

a. Parcels contain eligible matter as described in 153.3.0 and 153.4.0.

b. Parcels bear a PRS label that meets the standards in 5.4.

c. Parcels show the permit number, and the permit holder has paid the annual PRS permit fee and the annual PRS account maintenance fee.

4.2.3 Customer Mailing Options

Returned parcels may be deposited as follows:

a. At any Post Office, station, or branch.

b. In any collection box (except a Priority Mail Express box).

c. With any letter carrier.

d. As part of a collection run for other mail (special arrangements may be required).

e. At any place designated by the postmaster for the receipt of mail.

4.2.4 Application Process

Companies who wish to participate in PRS must send a request on company letterhead to the manager, Business Mailer Support (see 608.8.0 for address). The request must contain the following information:

a. Company name and address.

b. An individual's contact name, telephone number, fax number, and email address.

c. The price category or categories to be used, and the proposed retrieval locations (delivery units, sectional center facilities, and network distribution centers).

d. A description of the electronic returns manifesting system to be used to document returns listed by location and price eligibility.

4.2.5 Approval

The manager, Business Mailer Support reviews each request and proceeds as follows:

a. If the applicant meets the criteria, the manager, Business Mailer Support approves the letter of request and sends an authorization letter outlining the terms and conditions for the program.

b. If the application does not meet the criteria, the manager, Business Mailer Support denies the request and sends a written notice to the applicant with the reason for denial.

4.2.6 Permit Cancellation

USPS may cancel a PRS permit for any of the following reasons:

a. The permit holder fails to pay the required postage and fees for returned parcels.

b. The permit holder does not maintain adequate available funds to cover postage and fees for returned parcels.

c. The permit holder does not fulfill the terms and conditions of the PRS permit authorization.

d. The return labels do not conform to the specifications in 5.4.

4.2.7 Reapplying After Cancellation

To receive a new PRS permit after cancellation under 5.1.7, the mailer must:

a. Submit a letter to the manager, Business Mailer Support requesting a permit and a new agreement.

b. Pay a new Returns Services permit fee.

c. Provide evidence showing that the reasons for cancellation no longer exist.

d. Maintain adequate available funds to cover the expected number of returns.

4.2.8 Extra Services and Endorsement

Pieces using PRS may not bear an ancillary service endorsement (see 102.4.0 and 507.1.5). See 503.0 for available extra services for PRS.

4.2.9 Pickup Schedule and Location

Permit holders or their agents must set up recurring or standing appointments to retrieve PRS parcels. If the permit holder (or agent) has existing appointments to deliver Parcel Select parcels to destination facilities and those facilities are one of the NDCs, designated RSCFs, or designated RDUs, those appointments can be used for retrieving PRS parcels at the same time. Permit holders or their agents must retrieve parcels on a regular schedule as follows:

a. From RNDCs, at a minimum of every 48 hours, excluding Sundays and USPS holidays.

b. From all listed RSCFs, at a minimum of every 24 hours, excluding Saturdays, Sundays, and USPS holidays. The Postal Service maintains a list of active RSCFs and provides permit holders 30-day notice of changes to the list. This list is available on the Facility Access and Shipment Tracking system (FAST) at https://fast.usps.com/fast/.

c. From RDUs, according to the authorization letter. The USPS maintains a list of active RDUs and provides permit holders 30-day notice of changes to the list. This list is available on the Facility Access and Shipment Tracking system (FAST) at https://fast.usps.com/fast/.

d. For parcels picked up from RNDCs and that are shipped from origin ZIP Codes 006-009, 967-969, and 995-999, see 5.3.

4.2.10 Parcels Endorsed Hold for Pickup

PRS participants must pay the appropriate Parcel Return Service RDU price under 5.3 for any unclaimed, refused, undeliverable as addressed, or recalled parcels that are endorsed “Hold For Pickup” (under 508.7.0) and that bear the marking “PARCEL RETURN SERVICE REQUESTED” or “PRS REQUESTED” followed by a unique 569 prefix ZIP Code.

4.2.11 Noncompliant Labels

PRS permit holders must use USPS-certified labels meeting the standards in 4.3. When noncompliant labels are affixed to PRS parcels, which travel through the Postal network to the delivery address of the label, the permit holder will be assessed the appropriate Standard Post price, calculated from the parcel's entry point in the USPS network to its delivery address. If the parcel's entry point cannot be determined, then postage will be calculated at zone 4.

[Revise the title of renumbered 4.3 as follows:]

4.3 Labels

4.3.1 Label Preparation

[Revise renumbered 4.3.1 to read as follows:]

PRS labels must be certified by the USPS for use prior to distribution as defined in the service agreement. In addition, permit holders must obtain USPS certification for barcode symbologies. Except for by FAX, any photographic, mechanical, or electronic process or any combination of these processes may be used to produce PRS labels. The background of the label may be any light color that allows the address, barcodes, and other required information to be easily distinguished. If labels are electronically transmitted to customers for their local printing, the permit holder must advise customers of these printing requirements as part of the instructions in 4.3.3.

4.3.2 Labeling Methods

[Revise renumbered 4.3.2 to read as follows:]

If all applicable contents and formats are approved (including instructions to the user), permit holders or their agents may distribute a PRS label by any of the methods provided under 3.5.4.

[Revise the title and text of renumbered 4.3.3 to read as follows:]

4.3.3 Labeling Instructions

Regardless of label distribution method, permit holders or their agents must always provide written instructions to the user of the PRS label as provided under 3.5.5.

4.3.4 Label Format Elements

[Revise renumbered 4.3.4 to read as follows:]

PRS labels must meet the standards in the Parcel Labeling Guide available on RIBBS. There is no minimum size for PRS labels; however, the label must be big enough to accommodate all of the label elements and standards in this section. All PRS label elements must be legible. Except where a specific type size is required, elements must be large enough to be legible from a normal reading distance and be separate from other elements on the label.

[Delete 6.0, Parcel Return Service-Full Network, in its entirety.]

[Renumber current 7.0, Bulk Parcel Return Service, as new 6.0.]

6.0 Bulk Parcel Return Service

[Retitle renumbered 6.1 to read as follows;]

6.1 Bulk Parcel Return Service (BPRS) Permit and Fees

[Delete renumbered 6.1.1, Permit Fee, through 6.1.3, Per Piece Charge, in their entirety (text relocated in new 6.1.1).]

[Delete the renumbered heading 6.2, Charges and Fees.]

[Renumber 6.2.1 through 6.2.6 as new 6.1.1 through 6.1.6, then, revise the title and text of renumbered 6.1.1 to read as follows:]

5.1.1 Permit and Per Piece Fees

A BPRS permit is required to participate in BPRS; no annual fee is required to obtain a BPRS permit. Each piece returned through BPRS is charged only the per piece fee, not postage, regardless of weight. See Notice 123—Price List for applicable fees.

[Delete renumbered 6.1.2, Per Piece Fee, in its entirety (context of text relocated under 6.5.1); then, renumber 6.1.3 through 6.1.6 as new 6.1.2 through 6.1.5.]

[Revise the title and text of newly renumbered 5.1.2 to read as follows:]

6.1.2 Advance Deposit Account

The permit holder must pay BPRS fees through an advance deposit account. A separate advance deposit account for BPRS is not required; the annual account maintenance fee is charged if BPRS fees are not paid from an existing account and the permit holder desires a single, separate accounting of all charges deducted from that account.

[Delete renumbered 6.1.3, Existing Advance Deposit Account, (relocated to 6.1.2, Advance Deposit Account), and 6.1.4, Payment Guarantee, (relocated to 6.2.3 under Availability), in their entirety; then, renumber 6.1.5, Postage Due Weight Averaging, as new 6.1.3.]

* * * * *

[Renumber 6.3, General Information, as new 6.2, then revise the title of renumbered 6.2, General Information, to read as follows:]

6.2 Basic Standards

6.2.1 Description

[Revise renumbered 6.2.1 to read as follows:]

Bulk parcel return service (BPRS) allows mailers of large quantities of Standard Mail or Parcel Select Lightweight machinable parcels that are either undeliverable-as-addressed or un-opened and refused by addressees to be returned to designated postal facilities. The mailer has the option of picking up all returned parcels from a designated postal facility at a predetermined frequency specified by the USPS or having them delivered by the USPS in a manner and frequency specified by the USPS. For this service, a mailer establishes a BPRS permit and pays a per piece charge for each parcel returned from an advance deposit account.

6.2.2 Availability

[Revise renumbered 6.2.2 to read as follows:]

A mailer may be authorized to use BPRS when the following conditions apply:

a. All returned parcels are initially prepared as regular or Nonprofit Standard Mail, or Parcel Select Lightweight, and are machinable parcels as defined in 201.7.5.

b. At least 10,000 Standard Mail or Parcel Select Lightweight machinable parcels will be returned to a designated postal facility during a 12-month period.

c. Parcels are returned to the mailer either because they are undeliverable- as-addressed or because they are un-opened and refused by the addressee.

d. Parcels bear an approved BPRS label or one of the following BPRS endorsements (507.2.0) on the outbound mailpiece:

“Return Service Requested—BPRS”

“Address Service Requested—BPRS”

e. Parcels have a return address that is in the delivery area of the Post Office that issued the BPRS permit.

f. The postal facility designated for returned parcels is located in the United States, its territories or possessions, or is a U.S. military Post Office overseas (APO or FPO).

g. The mailer has a valid postage due advance deposit account and BPRS permit.

h. BPRS parcels may be combined with the shipper paid forwarding service (507.4.2.9).

i. Standard Mail or Parcel Select Lightweight parcels that qualify for a Media Mail or Library Mail price under the applicable standards, and that contain the name of the Package Service price in the mailer's ancillary service endorsement (507.1.5.3d.), are not eligible for BPRS.

[Delete renumbered 6.2.3, Optional Label, in its entirety (text relocated to 6.4.2); then, insert new 6.2.3, Payment Guarantee, to read as follows:]

6.2.3 Payment Guarantee

The permit holder guarantees payment of all applicable fees. The Post Office returns BPRS items to the permit holder only when there are sufficient funds in the advance deposit account to pay the fees on returned pieces.

[Delete renumbered 6.2.4, Extra Services, in its entirety (text relocated to New 6.2.4).]

[Delete renumbered heading 6.4, Permits, in its entirety.]

[Renumber current 6.4.1, Application Process, through 6.4.3, Postage Due Service Agreement, as 6.2.4 through 6.2.6; then, retitle renumbered 6.2.4 to read as follows:]

6.2.4 Application Process

[Revise the introductory text and items a, b, and f, of renumbered 6.2.4 to read as follows:]

To obtain a BPRS permit, a mailer must send a written request to the Postmaster at each Post Office where parcels are to be returned that includes the following:

a. Request for the BPRS permit.

b. Information pertinent to each requested delivery point that documents either the receipt of, or that there are reasonable grounds to expect, at least 10,000 machinable parcels originally mailed at regular or non-profit Standard Mail or Parcel Select Lightweight prices during the past, or next, 12 months.

* * * * *

f. If a label will be furnished for returning opened parcels, the labels must be USPS approved, prepared in accordance with 6.5, and must be accompanied by complete instructions for its use as described in 3.5.5.

6.2.5 Authorization

[Revise the text of renumbered 6.2.5 to read as follows:]

A BPRS mailer will be required to sign a postage due service agreement with each Post Office that issues a permit for the return of BPRS parcels. Upon approval of a mailer's request, the Post Office issues an authorization letter and provides a postage due service agreement with a BPRS permit number. The permit number is used for account administration and is required on BPRS labels under 6.5, when used.

[Delete renumbered 6.2.6, Postage Due Service Agreement, (text relocated to 6.2.5), in its entirety.]

[Insert new heading, 6.3 Permits]

6.3 Permits

[Renumber 6.4.4 as new 6.3.1 and revise text to read as follows:]

6.3.1 Permit Renewal

A Post Office provides BPRS permit holders with annual renewal notices advising that their permits are due to expire. A notice must be returned to the issuing Post Office with the fee payment or authorization for the postmaster to deduct the fee from the advance deposit account by the permit expiration date. Written authorization is not necessary for renewal of a permit if there is no change to the authorization on file at the Post Office where the parcels are returned. If a permit holder does not renew a BPRS permit after having been given notice, the USPS will endorse the mail “Bulk Parcel Return Service Canceled” and will charge postage due at the single-piece First-Class Mail or Priority Mail price as appropriate for the weight of the piece. If the single-piece First-Class Mail or Priority Mail price is not paid, the mail is forwarded to the nearest mail recovery center.

[Renumber 6.4.5 and 6.4.6 as new 6.3.2 and 6.3.3.]

6.3.2 Permit Cancellation

A BPRS permit may be canceled by the USPS for any of the following reasons:

* * * * *

[Revise the text of renumbered 6.3.2 item e to read as follows:]

e. Failure to conform return labels to the specifications in section 6.5.

6.3.3 Reapplying After Cancellation

A mailer must do the following to receive a new BPRS permit at the same Post Office where a permit was previously canceled:

[Revise the text of renumbered 6.3.3 items a to read as follows; then, delete item b in its entirety; then, renumber items c and d and new items b and c:]

a. Submit a letter to that office requesting a BPRS permit and new agreement.

* * * * *

[Insert new section 6.3.4 as follows:]

6.3.4 Extra Services

Extra services cannot be added to pieces returned via bulk parcel return service.

[Revise the title and text of renumber 6.5, Label Requirements, to read as follows:]

6.5 Optional BPRS Label

An authorized BPRS permit holder has the option to use a label to identify BPRS parcels for return to a designated postal facility. The label is prepared at the mailer's expense and must meet all format standards in the Parcel Labeling Guide available on RIBBS, including an IMpb meeting the standards in 708.5.0.

* * * * *

507 Mailer Services

1.0 Treatment of Mail

* * * * *

1.5 Treatment for Ancillary Services by Class of Mail

* * * * *

1.5.3 Standard Mail and Parcel Select Lightweight

Undeliverable-as-addressed (UAA) Standard Mail and Parcel Select Lightweight pieces are treated as described in Exhibit 1.5.3, with these additional conditions:

* * * * *

Exhibit 1.5.3 Treatment of Undeliverable Standard Mail and Parcel Select Lightweight

[Revise (only) the two designated sections of Exhibit 1.5.3 titled Address Service Requested (Option 1 and Option 2) and Change Service Requested 1 4 (Option 1 and Option 2) to read as follows:]

Mailer endorsement | USPS treatment of UAA pieces
No Endorsement ¹ | * * * * *
“Electronic Service Requested” | * * * * *
“Address Service Requested” | (Does not include Shipper Paid Forwarding/Return participants)
OPTION 1 | * * * * *
OPTION 2 | * * * * *
“Address Service Requested” | * * * * *
Shipper Paid Forwarding/Return Option 1 | * * * * *
Shipper Paid Forwarding/Return Option 2 | * * * * *
Shipper Paid Forwarding/Return Option 3 | * * * * *
“Address Service Requested—BPRS” | * * * * *
“Forwarding Service Requested” ³ | * * * * *
“Return Service Requested” | * * * * *
OPTION 1
OPTION 2
“Return Service Requested—BPRS” | * * * * *
“Change Service Requested” ¹ ⁴
OPTION 1 | (Valid for all pieces, including ACS participating pieces) If no change-of-address order on file, or if change-of-address order is on file: Notice of new address or reason for non-delivery provided (address correction fee charged); piece disposed of by USPS.
| Restrictions: The following restrictions apply: (1) USPS Tracking is the only extra services permitted with this endorsement. (2) This endorsement is not permitted for Standard Mail or Parcel Select Lightweight containing hazardous materials.
OPTION 2 | (Available via ACS only; for Standard Mail letters and flats only) If no change-of-address order on file: Reason for non-delivery provided to mailer (electronic ACS fee charged); piece disposed of by USPS.
| If change-of-address order on file: • Months 1 through 12: Piece forwarded; postage due charged to the mailer at applicable Forwarding Fee based on the piece shape (letter or flat); separate notice of new address provided (electronic ACS fee charged). • Months 13 through 18: Piece disposed of by USPS; separate notice of new address provided (electronic ACS fee charged). After month 18: Treatment same as noted under “If no change-of-address order on file”.
| Restrictions: The following restrictions apply: (1) USPS Tracking is the only extra services permitted with this endorsement. (2) This endorsement is not permitted for Standard Mail containing hazardous materials.
“Change Service Requested” | * * * * *

* * * * *

1.5.4 Standard Post, Package Services and Parcel Select

Undeliverable-as-addressed (UAA) Standard Post, Package Services, and Parcel Select mailpieces are treated as described in Exhibit 1.5.4, with these additional conditions:

* * * * *

Exhibit 1.5.4 Treatment of Undeliverable Standard Post, Package Services, and Parcel Select

[Revise (only) the designated section of Exhibit 1.5.4 titled Change Service Requested 2 (Option 1 and Option 2) to read as follows:]

Mailer endorsement | USPS treatment of UAA pieces
No Endorsement | * * * * *
“Electronic Service Requested” | * * * * *
“Address Service Requested” | * * * * *
“Address Service Requested” | * * * * *
“Forwarding Service Requested” ¹ | * * * * *
“Return Service Requested” | * * * * *
Option 1
Option 2
“Change Service Requested” ²
Option 1 | (Valid for all pieces, including ACS participating pieces) If no change-of-address order on file, or if change-of-address order is on file: Notice of new address or reason for non-delivery provided (address correction charged): piece disposed of by USPS.
| Restrictions: The following restrictions apply: (1) USPS Tracking and Signature Confirmation are the only extra services permitted with this endorsement. (2) This endorsement is not permitted for Standard
Option 2 | Post or Package Services containing hazardous materials.
| (Available via ACS only; for Bound Printed Matter flats only) If no change-of-address order on file: Reason for non-delivery provided to mailer (electronic ACS fee charged); piece disposed of by USPS.
| If change-of-address order on file: • Months 1 through 12: Piece forwarded; postage due charged to the mailer at applicable Forwarding Fee based on the piece shape (flat); separate notice of new address provided (electronic ACS fee charged). • Months 13 through 18: Piece disposed of by USPS; separate notice of new address provided (electronic ACS fee charged). After month 18: Treatment same as noted under “If no change-of-address order on file”.
“Change Service Requested” | * * * * *

* * * * *

2.0 Forwarding

2.1 Change-of-Address Order

2.1.4 Methods of Filing

Customers may use one of the following methods to file a change-of-address with the Post Office:

* * * * *

[Delete item c. in its entirety.]

* * * * *

3.0 Premium Forwarding Services

* * * * *

3.3 Premium Forwarding Service Commercial

3.3.1 Description

[Revise the text of 3.3.1 to read as follows:]

Premium Forwarding Service Commercial (PFS Commercial) provides business commercial customers the option to have USPS gather their mail addressed to business PO Boxes (including Caller Service) or business street addresses within the same servicing postal facility, and dispatch the mail as Priority Mail Express or Priority Mail shipments to a new address in bulk. Customers must establish a service agreement with the USPS, pay an annual enrollment fee, and the applicable postage for the class of mail desired for the shipments. See Notice 123—Price List.

3.3.2 Authorization

[Revise the text of 3.3.2 to read as follows:]

Commercial customers may establish PFS Commercial service through the Business Customer Gateway for shipments selected, as desired as Priority Mail Express or Priority Mail. Requests must specify the business PO Boxes (or Caller Service) or business street delivery addresses, destination address, frequency (Monday through Saturday), and the postage payment method (see 3.3.3b). For customers using Priority Mail Express and paying postage through a USPSCA (corporate account), the enrollment request may be made in writing to the Postmaster at the origin Post Office. Service is activated upon approval by the Postmaster for the origin office.

3.3.3 Additional Conditions

[Revise the text of 3.3.3 to read as follows:]

Only the authorized recipient (or legal agent) of the business' (or organization's) mail may activate the request for PFS Commercial service. PFS Commercial service agreements are subject to these additional standards:

a. Customers must pay an annual enrollment fee to establish service, regardless of the number of individual business PO Boxes, Caller Service numbers, or business street delivery addresses included for each servicing Post Office. The enrollment fee is refundable only if the request is denied.

b. For requests made in writing to the origin Post Office, the annual enrollment fee may be paid at a retail Post Office location, station, or branch; the applicable Priority Mail Express postage for each shipment container is paid using the customer's USPSCA. For requests made through the Business Customer Gateway, the annual enrollment fee and applicable Priority Mail Express or Priority Mail postage for each shipment container is paid using an eVS account linked to the Centralized Account Processing System (CAPS).

c. Regardless of payment method chosen, the postage is charged per shipment container as follows:

1. A sack or tray box and its contents are considered one piece for calculation of the price of postage and must not exceed 70 pounds. Postage is calculated by the weight of the container and the zone, based on the ZIP Code of the servicing Post Office and the delivery address for the shipment, minus the tare weight.

2. A Flat Rate envelope and its contents are considered one piece for the applicable Flat Rate price.

d. If no mail is collected for a shipment on a designated frequency day, no postage is charged.

e. Except under 3.3.3g, the following products may be included in a PFS Commercial service container: Priority Mail, First-Class Mail, and First-Class Package Services pieces.

f. The mailer must keep a postage-due merchandise return service (MRS) account, or business reply mail (BRM) account at the originating postal facility where the PO Box or business street address is located. Any short paid, MRS, or BRM pieces will be charged to the mailer's account prior to shipment. The customer's application must include confirmation that such an account exists.

g. Priority Mail Express, or mailpieces with USPS Tracking, Certified Mail, COD, insurance, Signature Confirmation, or Adult Signature are shipped to the destination delivery office Postmaster separately, for proper handling.

h. Registered Mail is not eligible for PFS Commercial service.

i. Business customers may terminate their PFS Commercial service agreement, effective 24 hours after the USPS receives the customer's written notice of termination at the serving Post Office or through the Business Customer Gateway. The customer must pay all postage and fees as applicable for any shipments already scheduled before termination of service is made effective.

j. USPS may terminate a customer's PFS Commercial service agreement, effective 24 hours after the customer receives written notice of termination from the serving Post Office. Termination is based upon the customer's failure to pay postage and fees, failure to meet the standards for PFS Commercial service, or when there is substantial reason to believe that the service is being or will be used for unlawful activities (in these cases, less than the 24-hour effective period may be granted by USPS). The customer may appeal this termination of services to the manager, Post Office Operations, but must pay for all postage and fees as applicable for any service provided during the appeal period.

* * * * *

4.0 Address Correction Services

* * * * *

4.2 Address Change Service (ACS)

* * * * *

4.2.8 Address Correction Service Fee

[Revise the text of 4.2.8 to read as follows:]

Unless excepted, the applicable fee for address correction is charged for each separate notification of address correction or the reason for nondelivery provided. Once the ACS fee charges have been invoiced, any unpaid fees for the prior invoice cycle (month) will be assessed an annual administrative fee of 10% for the overdue amount.

* * * * *

508 Recipient Services

1.0 Recipient Options

1.1 Basic Recipient Concerns

* * * * *

1.1.7 Priority Mail Express and Accountable Mail

[Revise the introductory text of 1.1.7 to read as follows:]

The following conditions also apply to the delivery of Priority Mail Express, Registered Mail, Certified Mail, mail insured for more than $500.00, Adult Signature, or COD, as well as mail for which a return receipt is requested or the sender has specified restricted delivery.

* * * * *

[Insert new 1.1.8 (relocated from previously deleted 503.8.0) as follows:]

1.1.8 Additional Delivery Standards for Restricted Delivery

In additional to the standards described under 1.1.7, mail marked “Restricted Delivery” is delivered only to the addressee or to the person authorized in writing as the addressee's agent (the USPS may require proof of identification from the addressee (or agent) to receive the mail, and under the following conditions:

a. Mail for famous personalities and executives of large organizations is normally delivered to an agent authorized to sign for such mail.

b. Mail for officials of executive, legislative, and judicial branches of the government of the United States or of the states and possessions and their political subdivisions, or to members of the diplomatic corps, may be delivered to a person authorized by the addressee or by regulations or procedures of the agency or organization to receive the addressee's mail.

c. Mail for the commander or other officials of military organizations by name and title, is delivered to the unit mail clerk, mail orderly, postal clerk, assistant postal clerk, or postal finance clerk, when such individuals are designated on DD (Department of Defense) Form 285 to receipt for all mail addressed to the units for which they are designated. If the person accepting mail is designated on DD Form 285 to receipt for ordinary mail only, then restricted delivery mail addressed to the commander, or other official by name and title, is delivered to the mail clerk only if authorized by the addressee.

d. Mail for an inmate of a city, state, or federal penal institution, in cases where a personal signature cannot be obtained, is delivered to the warden or designee.

e. Mail for minors or persons under guardianship may be delivered to their parents or guardians.

f. An addressee who regularly receives restricted delivery mail may authorize an agent on Form 3801 or by letter to the Postmaster and must include the notation “this authorization is extended to include restricted delivery (or Adult Signature Restricted Delivery) mail”. Form 3849 also may be used for the authorization, if the Post Office has no standing delivery order or letter on file, when the addressee enters the name of the agent on the back of Form 3849 in the space provided and signs the form. The agent must sign for receipt of the article on the back of the form.

g. When mail is addressed to two or more persons jointly, all addressees or their agents must be present to accept delivery together. The delivery receipt obtained and the return receipt, if any, must be signed by all joint addressees or their agents. The mail may then be delivered to any of the addressees or their agents unless one or more addressees or their agents object, in which case delivery is not made until all the addressees or their agents sign a statement designating who is to receive the mail.

h. Either person may sign for mail addressed to one person in care of another (i.e. “In Care Of”).

* * * * *

4.0 Post Office Box Service

* * * * *

4.4 Basis of Fees and Payment

* * * * *

4.5 Fee Group Assignments

* * * * *

4.5.4 Additional Standards for Competitive PO Box Services

* * * Customers in competitive locations may also complete a customer agreement in order to receive one or more of the following enhancements:

[Revise 4.5.4 item a to read as follows:]

a. Street Addressing—The option to use the Post Office street address for their mailing address along with customer's box number preceded by as follows (customers who choose to use this designation also have the option of receiving packages from private carriers at the customer's Post Office Box address): John Smith, 123 Main Street #4567, Any Town, NY 10001.

* * * * *

[Revise 4.5.4 item c to read as follows:]

c. Signature on File—the option to simplify receipt of Priority Mail Express, mail insured for more $500.00, and Signature Confirmation items, all of which may include an electronic Return Receipt request, by providing a signature kept on file by the Postmaster.

* * * * *

5.0 Caller Service

* * * * *

5.8 Accelerated Reply Mail (ARM)

* * * * *

5.8.6 Mailer Receipt

[Revise the text of 5.8.6 to read as follows:]

The mailer may either pick up ARM at the origin facility caller service window or have it reshipped, through PFS Commercial (508.7) service, to the destination caller service address or to another address specified by the mailer. After updating a change to the destination address for the PFS Commercial service, the mailer must provide a 30-day advance notice and submit an amended ARM application, completing only the “Applicant Information” and “Priority Mail Express PFS Commercial.”

* * * * *

604 Postage Payment Methods

* * * * *

4.0 Postage Meters and PC Postage Products (“Postage Evidencing Systems”)

* * * * *

4.5 Special Indicia

* * * * *

4.5.2 Reply Postage

[Revise the entire text of 4.5.2 (context of text relocated to 505.2.6, Prepaid Reply Mail), to read as follows:]

Mailers may use indicia generated by any postage evidencing system to prepay reply postage as provided under 505.2.0.

* * * * *

5.0 Permit Imprint (Indicia)

* * * * *

5.3 Indicia Design, Placement, and Content

* * * * *

[Revise the title and text of 5.3.5 to read as follows:]

5.3.5 Marking Expedited Handling on Permit Imprint Mail

Mailpieces bearing unofficial markings that reference directly or indirectly expedited attention, handling or delivery (e.g., “Urgent,” “Rush Delivery,” “Time Sensitive”) must meet the following conditions:

a. The indicia much show the class of mail (e.g. “Standard” or “STD”; “Presorted Standard” or “PRSRT STD”; or “Nonprofit Organization,” “Nonprofit Org.,” or “Nonprofit” or as applicable for the class of mail as provided under 5.3.6 or 5.3.7) more prominently than other words in the indicia.

b. Include a clear space of at least ⅜ inch around the entire indicia.

c. Pieces may not include markings identical to or confusingly similar to USPS trademarks (word marks or logos), trade dress, or other words, symbols, or designs used by the USPS to identify a class of mail, price of postage, or level of service, unless such markings are correctly used under the applicable standards for the mailpiece on which they appear and the corresponding postage and fees have been paid. Words, symbols or designs that are unlawful or legally actionable, or create a claim for false advertisements or contributory infringement (infringement of third party rights) are not permitted.

6.0 Payment of Postage

6.1 Basic Standards

The mailer is responsible for proper payment of postage. Postage on all mail must be fully prepaid at the time of mailing, except as specifically provided by standard for:

[Revise 6.1 items a and b to read as follows:]

a. Reply mail and return services under 505.0.

b. Alternate Postage payment under 5.5.

* * * * *

[Insert new item g under 6.1 to read as follows:]

g. Packages from private carriers being delivered to a customer at a competitive Post Office Box service location, when using the street addressing designation option, as provided under 508.4.5.4.

* * * * *

9.0 Exchanges and Refunds

* * * * *

9.2 Postage and Fee Refunds

* * * * *

9.2.5 Applying for Refund

[Revise the first and the last sentences of 9.2.5 to read as follows:]

For refunds under 9.2, excluding postage refunds for extra service fees under 9.2.7, the customer must apply for a refund on Form 3533; submit it to the postmaster; and provide the envelope, wrapper (or a part of it) showing the names and addresses of the sender and addressee, canceled postage and postal markings, or other evidence of postage and fees paid. * * * Refunds for postage evidencing systems postage, excluding postage refunds for extra service fees under 9.2.7, are submitted under 9.3.

* * * * *

[Insert new 9.2.7 to read as follows:]

9.2.7 Applying for Extra Service Refund

For refunds for fees paid for extra services, as allowed under applicable standards in 9.2, the customer must apply for a refund online at www.usps.com/domestic-claims.

* * * * *

609 Filing Indemnity Claims for Loss or Damage

1.0 General Filing Instructions

* * * * *

1.5.2 Claims Filed by Mail

[Revise the first sentence of 1.5.2 to read as follows:]

Customers may file a claim by completing a Form 1000 and mailing the original copy to the address indicated on the form, accompanied by proof of value. * * *

* * * * *

3.0 Providing Evidence of Insurance and Value

3.1 Evidence of Insurance

* * * Examples of acceptable evidence are:

* * * * *

[Revise the second sentence of 3.1 item d to read as follows:]

d. * * * The printout must identify the USPS Tracking number of the insured parcel, total postage paid, insurance fee paid, declared value (if applicable), mailing date, origin ZIP Code, and delivery ZIP Code.

* * * * *

3.2 Proof of Value

* * * Examples are:

[Revise 3.2 item a to read as follows:]

a. A sales receipt, paid invoice or bill of sale, or statement of value from a reputable dealer.

[Delete current 3.2 items b and c in their entirety; then, renumber current items d through h as new items b through f.]

* * * * *

4.0 Claims

4.1 Payable Claim

[Revise the introductory text of 4.1 to read as follows:]

Insurance for loss or damage to insured, COD, or Registered Mail within the amount covered by the fee paid, or the indemnity limits for Priority Mail, or Priority Mail Express (under 4.2), is payable for the following:

[Revise 4.1 item a to read as follows:]

a. Article's actual value when mailed.

* * * * *

[Revise 4.1 item k to read as follows:]

k. Cost of bees, crickets, or baby poultry destroyed by physical damage to the package, otherwise, the USPS is not presumed to be at fault.

[Delete 4.1 items l and m in their entirety; then, renumber current items n through q as new l through o.]

* * * * *

[Revise newly renumbered item n to read as follows:]

n. For firearms mailed by licensed firearm dealers (under 601.8.0 and Publication 52), 4, a Form 1508 must be submitted with the claim.

[Revise newly renumbered item o to read as follows:]

o. For collectible items, a sales receipt, paid invoice or bill of sale, or statement of value from a reputable dealer (i.e., a licensed business owner who is qualified to estimate value or cost of repairs for the item) must be provided as described in 3.2a.

4.2 Payable Priority Mail Express Claim

In addition to the payable claims in 4.1, the following are payable for Priority Mail Express mailpieces:

[Revise the second sentence of 4.2 item a to read as follows:]

a. * * * Coverage is limited to $100 per mailpiece, subject to a maximum limit per occurrence as provided in 4.2a.4. * * *

* * * * *

4.3 Nonpayable Claims

[Revise the introductory text of 4.3 to read as follows:]

Indemnity is not paid for insured mail (including Priority Mail Express and Priority Mail), Registered Mail, COD, or Priority Mail and Priority Mail Express in these situations:

* * * * *

[Revise 4.3 item d to read as follows:]

d. Requested replacement value exceeded article's actual value when mailed.

* * * * *

[Revise 4.3 item f to read as follows:]

f. Loss resulting from delay of the mail, except under 4.2a.2 and 4.3ad.

* * * * *

[Revise 4.3 item h to read as follows:]

h. Perishable contents frozen, melted, spoiled, or deteriorated.

* * * * *

[Revise 4.3 item k to read as follows:]

k. Death of honeybees, crickets, and harmless live animals not the fault of the USPS (mailability is subject to standards under 601.8.4 and Publication 52, Chapter 5).

* * * * *

[Revise 4.3 item r to read as follows:]

r. Consequential loss of Priority Mail Express claimed, except under 4.2a.3 and 4.3ad.

* * * * *

5.0 Compensation

5.1 Payment Limit

[Revise the first sentence of 5.1 to read as follows:]

The USPS does not make payment for more than the article's actual value when mailed or, for bulk insurance, for more than the wholesale cost of the contents to the sender if a lesser amount. * * *

* * * * *

5.4 Loss

[Revise the title and text of 5.4 to read as follows:]

If the insured, registered, or COD article is lost the payment includes an additional amount for the postage (not fee) paid by the sender. Postage for Priority Mail Express is refunded under 604.9.5.

* * * * *

6.0 Adjudication of Claims

* * * * *

6.3 Final USPS Decision of Claims

[Revise the text of 6.3 to read as follows:]

If Accounting Services sustains the denial of a claim, the customer may submit an additional appeal within 30 days for final review and decision at www.usps.com/insuranceclaims/online.htm. Customers who did not file their claim online must send a written appeal to the Consumer Advocate (see 608.8.0 for address).

* * * * *

700 Special Standards

* * * * *

705 Advanced Preparation and Special Postage Payment Systems

* * * * *

8.0 Preparing Pallets

* * * * *

8.10 Pallet Presort and Labeling

* * * * *

8.10.2 Periodicals—Bundles, Sacks, or Trays

* * * Prepare pallets in the following sequence:

* * * * *

[Revise the text of 8.10.2 item b to read as follows:]

b. 5-digit scheme carrier routes, required, allowed with no minimum, permitted for bundles only. Pallet must contain only carrier route bundles for the same 5-digit scheme under L001. For 5-digit destinations not part of L001, 5-digit carrier routes pallet preparation begins with 8.10.2e. Labeling:

1. Line 1: L001.

2. Line 2: “PER” or “NEWS,” as applicable; followed by “FLTS” or “IRREG,” as applicable; followed by “CARRIER ROUTES” (or “CR-RTS”); followed by “SCHEME” (or “SCH”).

* * * * *

e. 5-digit carrier routes, required, except for trays; permitted for bundles, sacks, and trays. Allowed with no weight minimum for bundles. Pallet must contain only carrier route mail for the same 5-digit ZIP Code. Labeling:

* * * * *

8.10.3 Standard Mail or Parcel Select Lightweight-Bundles, Sacks, or Trays

* * * Preparation sequence and labeling:

a. 5-digit scheme carrier routes, required, allowed with no minimum, permitted for bundles of flats only. Pallet must contain only carrier route bundles for the same 5-digit scheme under L001. Labeling:

1. Line 1: L001.

2. “STD” followed by “FLTS”; followed by “CARRIER ROUTES” (or “CR-RTS”); followed by “SCHEME” (or “SCH”).

b. 5-digit carrier routes, required except for trays, permitted for bundles, sacks, trays, and cartons. Allowed with no weight minimum for bundles. Pallet must contain only carrier route mail for the same 5-digit ZIP Code. Labeling:

1. Line 1: City, state, and 5-digit ZIP Code destination (see 8.6.4c for overseas military mail).

2. Line 2: For flats and Marketing parcels (Product Samples only), “STD FLTS” or “STD MKTG,” as applicable; followed by “CARRIER ROUTES” (or “CR-RTS”). For letters, “STD LTRS”; followed by “CARRIER ROUTES” (or “CR-RTS”); followed by “BC” if pallet contains barcoded letters; followed by “MACH” if pallet contains machinable letters; followed by “MAN” if pallet contains nonmachinable letters.

[Revise heading of 14.0 to read as follows:]

14.0 FSS Scheme Preparation

[Revise the entire text of 14.1 to read as follows:]

14.1 General

All presorted and basic carrier route Standard Mail, presorted and carrier route Bound Printed Matter (BPM), and Periodicals flats meeting the standards in 201 must be sorted to FSS schemes, properly bundled and placed on or in pallets, trays, sacks, or approved alternate containers, for FSS scheme ZIP Code combinations within the same facility. Mailings that include 10 or more pieces of Standard Mail flats, 6 or more pieces of Periodicals flats, or 10 or more pieces (or 10 or more pounds) of BPM flats to an FSS scheme must be prepared in FSS scheme bundles. The Postal Service also recommends the use of authorized flat trays in lieu of sacks for FSS bundles. FSS scheme bundles that are not required to be placed in a FSS scheme or FSS facility container are combined with bundles of non-FSS sorted bundles and placed on an applicable SCF, 3-digit or NDC container. Mailers must prepare FSS scheme qualifying mailpieces for each individual FSS scheme combination, and then prepare bundles of uniform size from those pieces. Mailings (excluding saturation mailings of Standard Mail or Periodicals flats) with nonpresorted BPM flats may be included in FSS preparation, but will not be eligible for presorted, FSS scheme, FSS scheme container, FSS facility container or carrier route prices. Mailpieces and bundles must also be prepared as follows:

a. Bundles for all FSS schemes must be identified as an FSS scheme presort with an optional endorsement line under 708.7.0, or when authorized, using a red Label 5 SCH barcoded pressure-sensitive bundle label.

b. It is recommended that all pieces placed into an FSS scheme bundle be barcoded, and bear an accurate delivery point Intelligent Mail barcode with an accurate 11-digit routing code.

c. All FSS scheme bundles must be prepared in bundles with a 3-inch minimum and a 6.5-inch maximum height. “Leveling” (adjusting bundle heights within an FSS Scheme to avoid overflow bundles) of the bundles within each scheme is encouraged. Bundles must be placed on or in sacks, trays, pallets or alternate authorized container to form layers of consistent thickness; bundles of uneven thickness must be counter-stacked on pallets or approved alternate container in accordance with 8.5.8. Except for one overflow bundle that may be under the minimum size, all bundles within each FSS scheme must be of uniform size.

d. Pallets must be prepared under 8.0 and labeled under 8.6, with a pallet placard bearing an Intelligent Mail container barcode as described in 708.6.4.

e. An FSS scheme pallet, or approved alternate container, must be made when 250 pounds or more of bundles are available for an individual FSS scheme. Bundles remaining after palletization may be placed in sacks (or flat trays if approved) or approved alternate container.

f. FSS scheme bundles for multiple schemes processed at one facility according to column C, L006 may be combined on an FSS facility pallet or approved alternate container if quantities are less than 250 pounds.

g. Sacks and trays containing flat-size pieces prepared under FSS schemes must meet the applicable sacking standards in 14.2, 14.3, and 14.4 and be labeled with Intelligent Mail tray or sack label under 708.6.

14.2 Periodicals

14.2.1 Basic Standards

[Revise the entire text of 14.2.1 to read as follows:]

All Periodicals flats meeting the standards in 201 (nonmachinable flats up to ¾ inch thick may be included if they meet the standards in 705.14) and destinating to FSS sites as shown in L006 must be prepared according to these standards. Mailings of In-County Periodicals flats and the associated Outside-County Periodicals flats mailings of 5,000 pieces or less may be prepared according to these standards. Periodicals are subject to the following:

a. Pricing eligibility is based on 207.11.0 through 207.14.0. All Periodicals flats prepared under these standards will be assessed the FSS scheme price. FSS bundles placed on FSS scheme or FSS facility pallets, sacks, trays, or approved alternate container will claim the FSS scheme bundle price.

b. FSS scheme pallets will be assessed the FSS scheme Pallet price. FSS facility sort level pallets will be charged an FSS Facility Pallet container price. FSS scheme sacks or trays will be assessed the FSS scheme Sack/Tray price. Pallets, sacks and trays entered at a DFSS will claim the DFSS entry price.

c. The Outside-County pound price will be DFSS price. The Inside-County price will claim prices for the “None” entry level.

d. Mailers must provide standardized presort documentation under 708.1.0 that demonstrates eligibility for FSS prices in accordance with 207.14.0 and 207.25.0.

e. Each bundle must be identified with a “SCH 5-DIGIT FSS” optional endorsement line in accordance with Exhibit 708.7.1.1, or when authorized, using a red Label 5 SCH barcoded pressure-sensitive bundle label.

f. All FSS schemed Periodicals mailpieces prepared on FSS scheme pallets must be prepared in uniform size bundles, between 3 inches and 6.5 inches in height and secured under 203.3.0, except that one overflow bundle per mailpiece pool may be under the minimum size. All Periodicals FSS scheme mailpieces must meet the standards in 705.14.0.

14.2.2 Pallet Preparation and Labeling

[Revise the second and third sentences of the introductory text of 14.2.2 to read as follows:]

* * * Residual bundles may be included with non-FSS bundles and placed directly on 3-digit, SCF, or ADC pallets in accordance with 8.10.2, or placed in sacks or approved alternate containers. Preparation sequence and labeling is as follows:

* * * * *

[Revise 14.2.2b and 14.2.2b1 to read as follows:]

b. FSS facility, optional, no minimum, permitted only for FSS scheme bundles prepared for the FSS sort plans processed within the same facility, as shown in L006. Labeling:

1. Line 1: L006, column C.

* * * * *

14.2.3 Sack Preparation and Labeling

[Revise the first sentence of the introductory text of 14.2.3 to read as follows:]

Properly prepared flat-size mailpieces in FSS scheme bundles may be placed in sacks or approved alternate containers when 250 pounds are not available to a presort destination (including DFSS sites). * * * Preparation and labeling:

[Revise 14.2.3 item a to read as follows:]

a. FSS scheme, required at 72 pieces, optional at 24 pieces (fewer pieces not permitted), permitted only for FSS scheme bundles prepared for a single FSS scheme, as shown in L006; labeling:

* * * * *

[Revise 14.2.3 item b to read as follows:]

b. FSS facility, optional with a minimum of 24 pieces (fewer pieces not permitted), permitted only for FSS bundles prepared for the FSS sort plans processed within the same facility, as shown in L006; labeling:

* * * * *

14.3 Standard Mail

14.3.1 Basic Standards

* * * * *

* * * Standard Mail flats are subject to the following:

[Revise 14.3.1 item b to read as follows:]

b. Mailers must provide standardized presort documentation under 708.1.0 that demonstrates eligibility for FSS scheme prices in accordance with 243.

[Delete 14.3.1 item c in its entirety; then, renumber current items d and e as new items c and d; then, and revise renumbered item d to read as follows:]

d. Standard Mail FSS scheme mailpieces must meet all the standards in 705.14.1.

* * * * *

14.3.2 Pallet Preparation and Labeling

* * * Preparation sequence and labeling:

[Revise 14.3.2 item a to read as follows:]

a. FSS scheme, required (optional under 250 pounds), no minimum, permitted only for FSS scheme bundles prepared for a single FSS scheme, as shown in L006. Labeling:

* * * * *

[Revise 14.3.2 items b and b1 to read as follows:]

b. FSS facility, optional, no minimum, permitted only for FSS scheme bundles prepared for the FSS scheme processed within the same facility, as shown in L006. Labeling:

1. Line 1: L006, column C.

* * * * *

14.3.3 Sack Preparation and Labeling

[Revise the first sentence of the introductory text of 14.3.3 to read as follows:]

Properly prepared flat-size mailpieces in FSS scheme bundles may be placed in sacks or approved alternate containers when 250 pounds are not available to a FSS scheme, L006. * * * Preparation and labeling:

[Revise 14.3.3 item a to read as follows:]

a. FSS scheme, required at 125 pieces or 15 pounds, permitted only for FSS scheme bundles prepared for a single FSS scheme, as shown in L006; labeling:

* * * * *

[Revise 14.3.3 item b to read as follows:]

b. FSS facility, optional with a minimum of 125 pieces or 15 pounds, permitted only for FSS scheme bundles prepared for the FSS schemes processed within the same facility, as shown in L006; labeling:

* * * * *

14.4 Bound Printed Matter

14.4.1 Basic Standards

[Revise the introductory text of 14.4.1 to read as follows:]

Bound Printed Matter (BPM) flats eligible for, and paid at FSS Scheme prices and that meet the standards in 201, must be prepared in FSS scheme bundles and placed on pallets, or in flat trays, sacks, or approved alternate containers, for delivery to ZIP Codes having FSS processing capability, as shown in L006. BPM flats are subject to the following:

* * * * *

[Revise 14.4.1 item b to read as follows:]

c. Mailers must provide standardized presort documentation under 708.1.0 that demonstrates eligibility for FSS scheme prices in accordance with 263.

[Revise 14.4.1 item c to read as follows:]

c. Mailers must prepare all eligible flat-size mailpieces into FSS scheme bundles according to L006.

* * * * *

14.4.2 Pallet Preparation and Labeling

* * * Preparation sequence and labeling:

* * * * *

b. FSS facility sort, optional, no minimum, permitted only for FSS bundles prepared for the FSS schemes processed within the same facility, as shown in L006. Labeling:

[Revise 14.4.2 item b1 to read as follows]

1. Line 1: L006, Column C.

* * * * *

14.4.3 Sack Preparation and Labeling

[Revise the introductory text of 14.4.3 to read as follows:]

Properly prepared flat-size mailpieces in FSS scheme bundles may be placed in trays, sacks, or approved alternate containers when 250 pounds are not available to an FSS scheme. FSS scheme bundles may be placed in mixed NDC sacks or alternate containers, or combined with non-FSS bundles and placed in 3-digit, SCF, ADC, and mixed ADC sacks or alternate containers. Preparation and labeling:

[Revise 14.4.3 item a to read as follows:]

a. FSS scheme, required at 20 pieces, permitted only for FSS scheme bundles prepared for a single FSS scheme, as shown in L006; labeling:

* * * * *

[Revise the text of 14.4.3b as follows:]

b. FSS facility sort, optional with a minimum of 20 pieces, permitted only for FSS scheme bundles prepared for the FSS schemes processed within the same facility, as shown in L006.

* * * * *

23.0 Full-Service Automation Option

* * * * *

23.2 General Eligibility Standards

[Revise the introductory text of 23.2 to read as follows:]

First-Class Mail, Periodicals, and Standard Mail letters and flats meeting eligibility requirements for automation or carrier route prices (except for Standard Mail ECR saturation flats), and Bound Printed Matter presorted or carrier route barcoded flats, are potentially eligible for full-service incentives. All pieces entered under full service pricing must:

* * * * *

708 Technical Specifications

1.0 Standardized Documentation for First-Class Mail, Periodicals, Standard Mail, and Flat-Size Bound Printed Matter

* * * * *

1.2 Format and Content

For First-Class Mail, Periodicals, Standard Mail, and Bound Printed Matter, standardized documentation includes:

* * * * *

c. For mail in trays or sacks, list these required elements:

[Insert a new second sentence in the text of 1.2c item 4 to read as follows:]

* * * * *

4. * * * For pieces prepared in FSS scheme bundles, list by 5-digit ZIP Code within each bundle. * * *

* * * * *

1.3 Price Level Column Headings

The actual name of the price level (or abbreviation) is used for column headings required by 1.2 and shown below:

a. Automation First-Class Mail, Standard Mail, and barcoded Periodicals:

[Revise the table in 1.3 item a to read as follows:]

Price | Abbreviation
FSS [Periodicals flats, Standard Mail flats] 5-Digit [First-Class Mail letters and flats, Periodicals letters and flats, and Standard Mail letters and flats] | SB 5B
3-Digit [First-Class Mail letters and flats, Periodicals letters and flats, and Standard Mail letters and flats] | 3B
AADC [First-Class Mail, Periodicals, and Standard Mail letters] | AB
ADC [First-Class Mail, Periodicals, and Standard Mail Flats] | AB
Mixed AADC [First-Class Mail, Periodicals, and Standard Mail letters] | MB
Mixed ADC [First-Class Mail, Periodicals, and Standard Mail flats] | MB
Basic [In-County Periodicals] | BB
Firm [Outside-County Periodicals] | FB

b. Presorted First-Class Mail, barcoded and nonbarcoded Periodicals flats, nonbarcoded Periodicals letters, and machinable and nonmachinable Standard Mail:

[Revise the table in 1.3 item b to read as follows:]

Price | Abbreviation
Presorted [First-Class Mail letters/cards, flats, and parcels] | Presort
5-Digit [First-Class Mail parcels, all Standard Mail, and Periodicals letters] | 5D
FSS [Periodicals flats, Standard Mail flats] | SB
3-Digit [First-Class Mail parcels, all Standard Mail and Periodicals letters] | 3D
SCF [for Standard Mail parcels] | SCF
AADC [Standard Mail machinable letters] | AB
ADC [First-Class Mail parcels, First-Class Mail Package Service parcels, Standard Mail nonmachinable letters, flats, and irregular parcels and all Periodicals] | AD
Basic [In-County Periodicals] | BS
Mixed AADC [Standard Mail machinable letters] | MB
Mixed ADC [Standard Mail nonmachinable letters, flats, irregular parcels; and all Periodicals] | MD
Mixed ADC [First-Class Mail parcels] | SP
NDC [Standard Mail machinable parcels and Marketing parcels 6 ounces and over] | NDC
Mixed NDC [Standard Mail machinable parcels and Marketing parcels 6 ounces and over] | MNDC
Firm [Outside-County Periodicals] | FB

c. Carrier Route Periodicals and Enhanced Carrier Route Standard Mail:

* * * * *

1.4 Sortation Level

The actual sortation level (or corresponding abbreviation) is used for the bundle, tray, sack, or pallet levels required by 1.2 and shown below:

[Revise the table in 1.4 to read as follows:]

Sortation level | Abbreviation
Carrier Route | CRD
5-Digit Carrier Routes | CR5
5-Digit Scheme Carrier Routes [sacks and pallets, Periodicals flats and irregular parcels, Standard Mail flats] | CR5S
5-Digit Scheme [barcoded and machinable letters] | 5DGS
5-Digit Scheme [pallets, Periodicals flats and irregular parcels, Standard Mail flats, Bound Printed Matter flats] | 5DGS
Merged 5-Digit [sacks and pallets, Periodicals flats and irregular parcels, Standard Mail flats] | M5D
Merged 5-Digit Scheme [sacks and pallets, Periodicals flats and irregular parcels, Standard Mail flats] | M5DS
5-Digit FSS Scheme [bundle, tray, sack or other approved container, Periodicals flats, Standard Mail flats, Bound Printed Matter flats]] | 5DG FSS
3-Digit Carrier Routes | CR3
3-Digit Scheme [barcoded letters, barcoded and co-bundled flats] | 3DGS
Merged 3-Digit [sacks, Periodicals flats and irregular parcels] | M3D
3-Digit | 3DG
ADC | ADC
ADC [pallets created from bundle reallocation] | PADC
AADC | AADC
Mixed ADC | MADC
Origin Mixed ADC | OMX
Mixed AADC | MAAD
SCF [sacks and pallets, Periodicals flats, Bound Printed Matter, Standard Mail irregular parcels less than 6 ounces] | SCF
SCF [pallets created from bundle reallocation] | PSCF
NDC | NDC
ASF | ASF
NDC [pallets created from bundle reallocation] | PNDC
Mixed NDC [working] | MNDC

* * * * *

1.6 Detailed Zone Listing for Periodicals

1.6.1 Definition and Retention

[Revise the first sentence of 1.6.1 to read as follows:]

The publisher must be able to present documentation to support the number of copies of each edition of an issue, by entry point, mailed to each zone, and at DDU, DFSS, DSCF, DADC, DNDC, and In-County prices.* * *

* * * * *

1.6.3 Zone Abbreviations

Use the actual price name or the authorized zone abbreviation in the listings in 1.0 and 207.17.4.2:

[Revise the table in 1.6.3 to read as follows:]

Zone abbreviation | Rate equivalent
ICD | In-County, DDU
IC | In-County, Others
DDU | Outside-County, DDU
FSS | Outside-County, DFSS
SCF | Outside-County, DSCF
ADC | Outside-County, DADC
1-2 or 1/2 | zones 1 and 2
3, 4, 5, 6, 7, 8 (as applicable) | zones 3 through 8 (as applicable)
M | mixed zones

* * * * *

1.7.2 Outside-County Container Report

The container report must contain, at a minimum, the following elements:

* * * * *

[Revise 1.7.2 item d to read as follows:]

d. Container entry level (origin, DDU, DFSS, DSCF, DADC, or DNDC).

* * * * *

6.0 Standards for Barcoded Tray Labels, Sack Labels, and Container Placards

* * * * *

6.2 Specifications for Barcoded Tray and Sack Labels

* * * * *

6.2.4 3-Digit Content Identifier Numbers

* * * See Exhibit 6.2.4.

Exhibit 6.2.4 3-Digit Content Identifier Numbers

[Update Exhibit 6.2.4, 3-Digit Content Identifier Numbers, to read as follows:]

Class and mailing | CIN | Human-readable content line
Priority Mail Express Open and Distribute
* * * * * * *
Priority Mail Open and Distribute
* * * * * * *
First-Class Package Service, Parcels
* * * * * * *
All Other Classes, Parcels
* * * * * * *
First-Class Mail
FCM Letters—Automation
* * * * * * *
FCM Letters—Nonautomation Machinable
* * * * * * *
FCM Letters—Presorted Nonmachinable
* * * * * * *
FCM Letters—Single-Piece
* * * * * * *
FCM Flats—Automation
* * * * * * *
FCM Flats—Presorted
* * * * * * *
FCM Flats—Co-trayed Automation and Presorted
* * * * * * *
FCM Flats—Single-Piece
* * * * * * *
FC Parcels—Presorted
* * * * * * *
Periodicals (PER)
PER Letters—Carrier Route
* * * * * * *
PER Letters—Barcoded (Automation)
* * * * * * *
PER Letters—Nonbarcoded (Nonautomation)
* * * * * * *
PER Flats—Carrier Route
* * * * * * *
PER Flats—Barcoded
* * * * * * *
PER Flats—Nonbarcoded
* * * * * * *
PER Flats—Co-sacked Barcoded and Nonbarcoded
* * * * * * *
PER Flats—Merged Carrier Route, Barcoded, and Nonbarcoded
merged 5-digit sacks | 339 | PER FLTS CR/5D.
merged 5-digit scheme sacks | 349 | PER FLTS CR/5D SCH.
FSS scheme | 707 | PER FLTS 5D FSS SCH BC.
FSS facility | 703 | PER FLTS 5D FSS FAC BC.
merged 3-digit sacks | 352 | PER FLTS CR/5D/3D.
PER Irregular Parcels—Merged Carrier Route and Presorted
* * * * * * *
PER Irregular Parcels—Carrier Route
* * * * * * *
PER Irregular Parcels—Presorted
* * * * * * *
Periodicals (NEWS)
NEWS Letters—Carrier Route
* * * * * * *
NEWS Letters—Barcoded (Automation)
* * * * * * *
NEWS Letters—Nonbarcoded (Nonautomation)
* * * * * * *
NEWS Flats—Carrier Route
* * * * * * *
NEWS Flats—Barcoded
* * * * * * *
NEWS Flats—Nonbarcoded
* * * * * * *
NEWS Flats—Co-sacked Barcoded and Nonbarcoded
* * * * * * *
NEWS Flats—Merged Carrier Route, Barcoded, and Nonbarcoded
merged 5-digit | 439 | NEWS FLTS CR/5D.
merged 5-digit scheme | 449 | NEWS FLTS CR/5D SCH.
FSS scheme | 708 | NEWS FLTS 5D FSS SCH.
FSS facility | 704 | BC NEWS FLTS 5D FSS FAC.
merged 3-digit sacks | 452 | BC NEWS FLTS CR/5D/3D.
Regular Parcels—Merged Carrier Route and Presorted
* * * * * * *
NEWS Irregular Parcels—Carrier Route
* * * * * * *
NEWS Irregular Parcels—Presorted
* * * * * * *
Standard Mail
ECR Letters—Barcoded
* * * * * * *
ECR Letters—Nonautomation (Machinable)
* * * * * * *
ECR Letters—Nonautomation (Nonmachinable)
* * * * * * *
STD Letters—Automation
* * * * * * *
STD Letters—Nonautomation Machinable
* * * * * * *
STD Letters—Presorted Nonmachinable
* * * * * * *
STD Letters—Residual Pieces Subject to FCM Single-Piece Prices
* * * * * * *
Enhanced Carrier Route Flats—Nonautomation
* * * * * * *
STD Flats—Co-sacked Automation and Nonautomation
* * * * * * *
STD Flats—Merged Carrier Route, Automation, and Presorted
merged 5-digit | 539 | STD FLTS CR/5D.
merged 5-digit scheme | 549 | STD FLTS CR/5D SCH.
FSS scheme | 709 | STD FLTS 5D FSS SCH BC.
FSS facility | 705 | STD FLTS 5D FSS FAC BC.
STD Flats—Automation
* * * * * * *
STD Flats—Nonautomation
* * * * * * *
STD Flats—Residual Pieces Subject to FCM Single-Piece Prices
* * * * * * *
Customized MarketMail (CMM)
* * * * * * *
ECR Marketing Parcels
* * * * * * *
STD Marketing Parcels Less Than 6 oz. and Irregular Parcels
* * * * * * *
STD Marketing Parcels 6 oz. or More and Machinable Parcels
* * * * * * *
STD Machinable and Irregular Parcels—Presorted
* * * * * * *
Package Services
Carrier Route BPM—Flats
* * * * * * *
Presorted BPM—Flats
* * * * * * *
Presorted BPM—Automation Flats
* * * * * * *
BPM Flats—Co-sacked Barcoded and Presorted
5-digit scheme sacks | 648 | PSVC FLTS 5D SCH BC/NBC.
FSS scheme | 710 | PSVC FLTS 5D FSS SCH.
FSS facility | 706 | BC PSVC FLTS 5D FSS FAC.
5-digit sacks | 648 | BC PSVC FLTS 5D BC/NBC.
3-digit sacks | 661 | PSVC FLTS 3D BC/NBC.
SCF sacks | 667 | PSVC FLTS SCF BC/NBC.
ADC sacks | 668 | PSVC FLTS ADC BC/NBC.
mixed ADC sacks | 669 | PSVC FLTS BC/NBC WKG.
Carrier Route BPM—Irregular Parcels
* * * * * * *
Presorted BPM—Irregular Parcels
* * * * * * *
Carrier Route BPM—Machinable Parcels
* * * * * * *
Presorted BPM—Machinable Parcels
* * * * * * *
Media Mail and Library Mail Flats—Presorted
* * * * * * *
Media Mail and Library Mail Irregular Parcels—Presorted
* * * * * * *
Media Mail and Library Mail Machinable Parcels—Presorted
* * * * * * *
Parcel Select
Parcel Select Machinable Parcels
* * * * * * *
Parcel Select DSCF and DDU Prices
* * * * * * *
Parcel Select—Irregular (Nonmachinable) Parcels
* * * * * * *
Parcel Select Lightweight Machinable Parcels
* * * * * * *
Parcel Select Lightweight Irregular Parcels
* * * * * * *
Combined Package Services and Parcel Select Parcels
* * * * * * *
Combined Package Services, Parcel Select, and Standard Machinable Parcels
* * * * * * *
Combined Package Services, Parcel Select, and Standard—All Parcels
* * * * * * *
Combined Package Services, Parcel Select, and Standard—Irregular Parcels 2 up to 6 oz. (APPS-Machinable)
* * * * * * *
Combined PSVC & STD—Irregular Parcels Less Than 2 oz., and Tubes and Rolls (Not APPS-Machinable)
* * * * * * *

We will publish appropriate amendment to 39 CFR part 111 to reflect these changes.

Stanley F. Mires,
Attorney, Federal Requirements.

[FR Doc. 2015-10029 Filed 5-1-15; 8:45 am]

BILLING CODE 7710-12-P